ENVIRONMENTAL PROTECTION AGENCY

40 CFR Part 52

[EPA-R04-OAR-2023-0220; FRL-10407-01-R4]

Air Plan Approval; Georgia; Second Period Regional Haze Plan

AGENCY: Environmental Protection Agency (EPA).

ACTION: Proposed rule.

SUMMARY: The Environmental Protection Agency (EPA) is proposing to approve a regional haze State Implementation Plan (SIP) revision submitted by the Georgia Department of Natural Resources, Environmental Protection Division (GA EPD), dated August 11, 2022 (“Haze Plan” or “2022 Plan”), as satisfying applicable requirements under the Clean Air Act (CAA or Act) and EPA's Regional Haze Rule (RHR) for the regional haze program's second planning period. Georgia's SIP submission addresses the requirement that States must periodically revise their long-term strategies for making reasonable progress toward the national goal of preventing any future, and remedying any existing, anthropogenic impairment of visibility, including regional haze, in mandatory Class I Federal areas. The SIP submission also addresses other applicable requirements for the second planning period of the regional haze program. EPA is taking this action pursuant to sections 110 and 169A of the Act.

DATES: Written comments must be received on or before July 3, 2024.

ADDRESSES: Submit your comments, identified by Docket ID No. EPA-R04-OAR-2023-0220, at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

FOR FURTHER INFORMATION CONTACT: Estelle Bae, Air Permits Section, Air Planning and Implementation Branch, Air and Radiation Division, U.S. Environmental Protection Agency, Region 4, 61 Forsyth Street SW, Atlanta, Georgia 30303-8960. Ms. Bae can be reached via telephone at (404) 562-9143 or electronic mail at bae.estelle@epa.gov.

SUPPLEMENTARY INFORMATION:

Table of Contents

I. What action is EPA proposing?

II. Background and Requirements for Regional Haze Plans

A. Regional Haze Background

B. Roles of Agencies in Addressing Regional Haze

III. Requirements for Regional Haze Plans for the Second Planning Period

A. Identification of Class I Areas

B. Calculations of Baseline, Current, and Natural Visibility Conditions; Progress to Date; and the Uniform Rate of Progress

C. Long-Term Strategy for Regional Haze

D. Reasonable Progress Goals

E. Monitoring Strategy and Other State Implementation Plan Requirements

F. Requirements for Periodic Reports Describing Progress Toward the Reasonable Progress Goals

G. Requirements for State and Federal Land Manager Coordination

IV. EPA's Evaluation of Georgia's Haze Submission for Second Planning Period

A. Identification of Class I Areas

B. Calculations of Baseline, Current, and Natural Visibility Conditions; Progress to Date; and the Uniform Rate of Progress

C. Long-Term Strategy for Regional Haze

D. Reasonable Progress Goals

E. Monitoring Strategy and Other State Implementation Plan Requirements

F. Requirements for Periodic Reports Describing Progress Toward the Reasonable Progress Goals

G. Requirements for State and Federal Land Manager Coordination

H. Environmental Justice Considerations

V. Incorporation by Reference

VI. Proposed Action

VII. Statutory and Executive Order Reviews

I. What action is EPA proposing?

On August 11, 2022, GA EPD submitted a revision to its SIP to address regional haze for the second planning period.1 2 GA EPD made this SIP submission to satisfy the requirements of the CAA's regional haze program pursuant to CAA sections 169A and 169B and 40 CFR 51.308. EPA is proposing to find that Haze Plan meets the applicable statutory and regulatory requirements. Thus, EPA is proposing to approve Georgia's Haze Plan into its SIP.³

¹ The August 11, 2022, SIP submission, with exception of the supporting modeling files, is included in the docket for this action. Due to size and compatibility limitations of the Federal Docket Management System, the supporting modeling files for Georgia's Regional Haze Plan are instead available at the EPA Region 4 office. To request these files, please contact the person listed in this Notice of Proposed Rulemaking (NPRM) under the section titled FOR FURTHER INFORMATION CONTACT.

² On November 1, 2023, Georgia supplemented its August 11, 2022, Haze Plan by submitting the final permits for each of the three sources selected for an emissions control analysis. This supplemental submission, received November 1, 2023, along with GA EPD's November 17, 2023, clarification email, is included in the docket for this proposed action.

³ In a letter dated August 15, 2022, EPA found that Georgia's Haze Plan meets the completeness criteria outlined in 40 CFR part 51, Appendix V. A completeness determination does not constitute a finding on the merits of the submission or whether it meets the relevant criteria for SIP approval. The August 15, 2022, letter is included in the docket for this rulemaking.

II. Background and Requirements for Regional Haze Plans

A. Regional Haze Background

In the 1977 CAA Amendments, Congress created a program for protecting visibility in the nation's mandatory Class I Federal areas, which include certain national parks and wilderness areas.⁴ CAA 169A. The CAA establishes as a national goal the “prevention of any future, and the remedying of any existing, impairment of visibility in mandatory class I Federal areas which impairment results from manmade air pollution.” See CAA 169A(a)(1). The CAA further directs EPA to promulgate regulations to assure reasonable progress toward meeting this national goal. See CAA 169A(a)(4). On December 2, 1980, EPA promulgated regulations to address visibility impairment in mandatory Class I Federal areas (hereinafter referred to as “Class I areas”) that is “reasonably attributable” to a single source or small group of sources. See 45 FR 80084 (December 2, 1980). These regulations, codified at 40 CFR 51.300 through 51.307, represented the first phase of EPA's efforts to address visibility impairment. In 1990, Congress added section 169B to the CAA to further address visibility impairment, specifically, impairment from regional haze. See CAA 169B. EPA promulgated the RHR, codified at 40 CFR 51.308,⁵ on July 1, 1999. See 64 FR 35714 (July 1, 1999). These regional haze regulations are a central component of EPA's comprehensive visibility protection program for Class I areas.

⁴ Areas statutorily designated as mandatory Class I Federal areas consist of national parks exceeding 6,000 acres, wilderness areas and national memorial parks exceeding 5,000 acres, and all international parks that were in existence on August 7, 1977. CAA 162(a). There are 156 mandatory Class I areas. The list of areas to which the requirements of the visibility protection program apply is in 40 CFR part 81, subpart D.

⁵ In addition to the generally applicable regional haze provisions at 40 CFR 51.308, EPA also promulgated regulations specific to addressing regional haze visibility impairment in Class I areas on the Colorado Plateau at 40 CFR 51.309. The latter regulations are applicable only for specific jurisdictions' regional haze plans submitted no later than December 17, 2007, and thus, are not relevant here.

Regional haze is visibility impairment that is produced by a multitude of anthropogenic sources and activities which are located across a broad geographic area and that emit pollutants that impair visibility. Visibility impairing pollutants include fine and coarse particulate matter (PM) (e.g., sulfates, nitrates, organic carbon, elemental carbon, and soil dust) and their precursors (e.g., sulfur dioxide (SO2), nitrogen oxides (NOX), and, in some cases, volatile organic compounds (VOC) and ammonia (NH3)). Precursor pollutants react in the atmosphere to form fine particulate matter (particles less than or equal to 2.5 micrometers (µm) in diameter, PM2.5), which impairs visibility by scattering and absorbing light. Visibility impairment reduces the perception of clarity and color, as well as visible distance.⁶

⁶ There are several ways to measure the amount of visibility impairment, i.e., haze. One such measurement is the deciview, which is the principal metric defined and used by the RHR. Under many circumstances, a change in one deciview will be perceived by the human eye to be the same on both clear and hazy days. The deciview is unitless. It is proportional to the logarithm of the atmospheric extinction of light, which is the perceived dimming of light due to its being scattered and absorbed as it passes through the atmosphere. Atmospheric light extinction (bext) is a metric used for expressing visibility and is measured in inverse megameters (Mm−¹). EPA's “Guidance on Regional Haze State Implementation Plans for the Second Implementation Period” (“2019 Guidance”) offers the flexibility for the use of light extinction in certain cases. Light extinction can be simpler to use in calculations than deciviews since it is not a logarithmic function. See, e.g., 2019 Guidance at 16, 19, https://www.epa.gov/visibility/guidance-regional-haze-state-implementation-plans-second-implementation-period, EPA Office of Air Quality Planning and Standards, Research Triangle Park (August 20, 2019). The formula for the deciview is 10 ln (bext)/10 Mm−¹). See 40 CFR 51.301.

To address regional haze visibility impairment, the 1999 RHR established an iterative planning process that requires both States in which Class I areas are located and States “the emissions from which may reasonably be anticipated to cause or contribute to any impairment of visibility” in a Class I area to periodically submit SIP revisions to address such impairment. See CAA 169A(b)(2); ⁷ see also 40 CFR 51.308(b), (f) (establishing submission dates for iterative regional haze SIP revisions); 64 FR at 35768. Under the CAA, each SIP submission must contain “a long-term (ten to fifteen years) strategy for making reasonable progress toward meeting the national goal,” CAA 169A(b)(2)(B); the initial round of SIP submissions also had to address the statutory requirement that certain older, larger sources of visibility impairing pollutants install and operate the best available retrofit technology (BART). See CAA 169A(b)(2)(A); 40 CFR 51.308(d), (e). States' first regional haze SIPs were due by December 17, 2007, 40 CFR 51.308(b), with subsequent SIP submissions containing updated long-term strategies (LTSs) originally due July 31, 2018, and every ten years thereafter. See 64 FR at 35768. EPA established in the 1999 RHR that all States either have Class I areas within their borders or “contain sources whose emissions are reasonably anticipated to contribute to regional haze in a Class I area”; therefore, all States must submit regional haze SIPs.⁸ Id. at 35721.

⁷ The RHR expresses the statutory requirement for States to submit plans addressing out-of-State Class I areas by providing that States must address visibility impairment “in each mandatory Class I Federal area located outside the State that may be affected by emissions from within the State.” See 40 CFR 51.308(d), (f).

⁸ In addition to each of the 50 States, EPA also concluded that the Virgin Islands and District of Columbia must also submit regional haze SIPs because they either contain a Class I area or contain sources whose emissions are reasonably anticipated to contribute regional haze in a Class I area. See 40 CFR 51.300(b), (d)(3).

Much of the focus in the first planning period of the regional haze program, which ran from 2007 through 2018, was on satisfying States' BART obligations. First planning period SIPs were additionally required to contain LTSs for making reasonable progress toward the national visibility goal, of which BART is one component. The core required elements for the first planning period SIPs (other than BART) are laid out in 40 CFR 51.308(d). Those provisions require that States containing Class I areas establish “reasonable progress goals” (“RPGs”) that are measured in deciviews and reflect the anticipated visibility conditions at the end of the planning period including from implementation of States' LTSs. The first planning period RPGs were required to provide for an improvement in visibility for the most impaired days over the period of the implementation plan and ensure no degradation in visibility for the least impaired days over the same period. In establishing the RPGs for any Class I area in a State, the State was required to consider four statutory factors (also referenced herein as “the four factors”): the costs of compliance, the time necessary for compliance, the energy and non-air quality environmental impacts of compliance, and the remaining useful life of any potentially affected sources. See CAA 169A(g)(1); 40 CFR 51.308(d)(1).

States were also required to calculate baseline (using the five year period of 2000-2004) and natural visibility conditions (i.e., visibility conditions without anthropogenic visibility impairment) for each Class I area, and to calculate the linear rate of progress needed to attain natural visibility conditions, assuming a starting point of baseline visibility conditions in 2004 and ending with natural conditions in 2064. This linear interpolation is known as the uniform rate of progress (URP) and is used as a tracking metric to help States assess the amount of progress they are making toward the national visibility goal over time in each Class I area.⁹ See 40 CFR 51.308(d)(1)(i)(B), (d)(2). The 1999 RHR also provided that States' LTSs must include the “enforceable emissions limitations, compliance, schedules, and other measures as necessary to achieve the reasonable progress goals.” See 40 CFR 51.308(d)(3). In establishing their LTSs, States are required to consult with other States that also contribute to visibility impairment in a given Class I area and include all measures necessary to obtain their shares of the emission reductions needed to meet the RPGs. See 40 CFR 51.308(d)(3)(i), (ii). Section 51.308(d) also contains seven additional factors States must consider in formulating their LTSs, 40 CFR 51.308(d)(3)(v), as well as provisions governing monitoring and other implementation plan requirements. See 40 CFR 51.308(d)(4). Finally, the 1999 RHR required States to submit periodic progress reports—SIP revisions due every five years that contain information on States' implementation of their regional haze plans and an assessment of whether anything additional is needed to make reasonable progress, see 40 CFR 51.308(g), (h)—and to consult with the Federal Land Manager(s) ¹⁰ (FLMs) responsible for each Class I area according to the requirements in CAA 169A(d) and 40 CFR 51.308(i).

⁹ EPA established the URP framework in the 1999 RHR to provide “an equitable analytical approach” to assessing the rate of visibility improvement at Class I areas across the country. The start point for the URP analysis is 2004 and the endpoint was calculated based on the amount of visibility improvement that was anticipated to result from implementation of existing CAA programs over the period from the mid-1990s to approximately 2005. Assuming this rate of progress would continue into the future, EPA determined that natural visibility conditions would be reached in 60 years, or 2064 (60 years from the baseline starting point of 2004). However, EPA did not establish 2064 as the year by which the national goal must be reached. 64 FR at 35731-32. That is, the URP and the 2064 date are not enforceable targets but are rather tools that “allow for analytical comparisons between the rate of progress that would be achieved by the State's chosen set of control measures and the URP.” See 82 FR 3078, 3084, January 10, 2017.

¹⁰ EPA's regulations define “Federal Land Manager” as “the Secretary of the department with authority over the Federal Class I area (or the Secretary's designee) or, with respect to Roosevelt-Campobello International Park, the Chairman of the Roosevelt-Campobello International Park Commission.” See 40 CFR 51.301.

On January 10, 2017, EPA promulgated revisions to the RHR (82 FR 3078) that apply for the second and subsequent planning periods. The 2017 rulemaking made several changes to the requirements for regional haze SIPs to clarify States' obligations and streamline certain regional haze requirements. The revisions to the regional haze program for the second and subsequent planning periods focused on the requirement that States' implementation plans contain LTSs for making reasonable progress toward the national visibility goal. The reasonable progress requirements as revised in the 2017 rulemaking (referred to here as the 2017 RHR Revisions) are codified at 40 CFR 51.308(f). Among other changes, the 2017 RHR Revisions adjusted the deadline for States to submit their second planning period SIPs from July 31, 2018, to July 31, 2021, clarified the order of analysis and the relationship between RPGs and the LTSs, and focused on making visibility improvements on the days with the most anthropogenic visibility impairment, as opposed to the days with the most visibility impairment overall. EPA also revised requirements of the visibility protection program related to periodic progress reports and FLM consultation. The specific requirements applicable to second planning period regional haze SIP submissions are addressed in detail below.

EPA provided guidance to the States for their second planning period SIP submissions in the preamble to the 2017 RHR Revisions as well as in subsequent stand-alone guidance documents. In August 2019, EPA issued its 2019 Guidance.¹¹ On July 8, 2021, EPA issued a memorandum containing “Clarifications Regarding Regional Haze State Implementation Plans for the Second Implementation Period” (“2021 Clarifications Memo”).¹² Additionally, EPA had clarified the recommended procedures for processing ambient visibility data and optionally adjusting the URP to account for international anthropogenic and prescribed fire impacts in two technical guidance documents: the December 2018 “Technical Guidance on Tracking Visibility Progress for the Second Implementation Period of the Regional Haze Program” (“2018 Visibility Tracking Guidance”),¹³ and the June 2020 “Recommendation for the Use of Patched and Substituted Data and Clarification of Data Completeness for Tracking Visibility Progress for the Second Implementation Period of the Regional Haze Program” and associated Technical Addendum (“2020 Data Completeness Memo”).¹⁴

¹¹ See footnote 6.

¹² “Clarifications Regarding Regional Haze State Implementation Plans for the Second Implementation Period.” https://www.epa.gov/system/files/documents/2021-07/clarifications-regarding-regional-haze-state-implementation-plans-for-the-second-implementation-period.pdf. EPA Office of Air Quality Planning and Standards, Research Triangle Park (July 8, 2021).

¹³ “Technical Guidance on Tracking Visibility Progress for the Second Implementation Period of the Regional Haze Program.” https://www.epa.gov/visibility/technical-guidance-tracking-visibility-progress-second-implementation-period-regional. EPA Office of Air Quality Planning and Standards, Research Triangle Park. (December 20, 2018).

¹⁴ “Recommendation for the Use of Patched and Substituted Data and Clarification of Data Completeness for Tracking Visibility Progress for the Second Implementation Period of the Regional Haze Program.” https://www.epa.gov/visibility/memo-and-technical-addendum-ambient-data-usage-and-completeness-regional-haze-program. EPA Office of Air Quality Planning and Standards, Research Triangle Park (June 3, 2020).

As previously explained in the 2021 Clarifications Memo, EPA intends the second planning period of the regional haze program to secure meaningful reductions in visibility impairing pollutants that build on the significant progress States have achieved to date. The Agency also recognizes that analyses regarding reasonable progress are state-specific and that, based on States' and sources' individual circumstances, what constitutes reasonable reductions in visibility impairing pollutants will vary from State to State. While there exist many opportunities for States to leverage both ongoing and upcoming emission reductions under other CAA programs, the Agency expects States to undertake rigorous reasonable progress analyses that identify further opportunities to advance the national visibility goal consistent with the statutory and regulatory requirements. See, generally, 2021 Clarifications Memo. This is consistent with Congress's determination that a visibility protection program is needed in addition to the CAA's National Ambient Air Quality Standards (NAAQS) and Prevention of Significant Deterioration (PSD) programs, as further emission reductions may be necessary to adequately protect visibility in Class I areas throughout the country.¹⁵

¹⁵ See, e.g., H.R. Rep No. 95-294 at 205 (“In determining how to best remedy the growing visibility problem in these areas of great scenic importance, the committee realizes that as a matter of equity, the national ambient air quality standards cannot be revised to adequately protect visibility in all areas of the country.”), (“the mandatory class I increments of [the PSD program] do not adequately protect visibility in class I areas”).

B. Roles of Agencies in Addressing Regional Haze

Because the air pollutants affecting visibility in Class I areas can be transported over long distances, successful implementation of the regional haze program requires long-term, regional coordination among multiple jurisdictions and agencies that have responsibility for Class I areas and the emissions that impact visibility in those areas. In order to address regional haze, States need to develop strategies in coordination with one another, considering the effect of emissions from one jurisdiction on the air quality in another. Five regional planning organizations (RPOs),¹⁶ which include representation from State and Tribal governments, EPA, and FLMs, were developed in the lead-up to the first planning period to address regional haze. RPOs evaluate technical information to better understand how emissions from State and Tribal land impact Class I areas across the country, pursue the development of regional strategies to reduce emissions of PM and other pollutants leading to regional haze, and help States meet the consultation requirements of the RHR.

¹⁶ RPOs are sometimes also referred to as “multi-jurisdictional organizations,” or MJOs. For the purposes of this notice, the terms RPO and MJO are synonymous.

The Southeastern States Air Resource Managers, Inc. (SESARM), one of the five RPOs described above, is a collaborative effort of State and local agencies and Tribal governments established to initiate and coordinate activities associated with the management of regional haze, visibility, and other air quality issues in the Southeast. SESARM's coalition to conduct regional haze work is referred to as Visibility Improvement State and Tribal Association of the Southeast (VISTAS).¹⁷ The member States, local air agencies, and Tribal governments of VISTAS are Alabama, Florida, Georgia, Kentucky, Mississippi, North Carolina, South Carolina, Tennessee, Virginia, and West Virginia; the local air agencies, represented by the President of Metro 4 or designee; ¹⁸ and the Tribes located within the VISTAS region, represented by the Eastern Band of the Cherokee Indians. The Federal partner members of VISTAS are EPA, U.S. National Park Service (NPS), U.S. Fish and Wildlife Service (FWS), and U.S. Forest Service (USFS).¹⁹

¹⁷ The VISTAS technical work under SESARM is described at this website: https://www.metro4-sesarm.org/content/vistas-regional-haze-program.

¹⁸ Metro 4 is a Tennessee corporation which represents the local air pollution control agencies in EPA's Region 4 in the Southeast. See https://www.metro4-sesarm.org/content/metro-4-about-us.

¹⁹ The NPS, FWS, and USFS are collectively referred to as the “Federal Land Managers” or “FLMs” throughout this document.

III. Requirements for Regional Haze Plans for the Second Planning Period

Under the CAA and EPA's regulations, all 50 States, the District of Columbia, and the U.S. Virgin Islands are required to submit regional haze SIPs satisfying the applicable requirements for the second planning period of the regional haze program by July 31, 2021. Each State's implementation plan must contain a LTS for making reasonable progress toward meeting the national goal of remedying any existing and preventing any future anthropogenic visibility impairment in Class I areas. See CAA 169A(b)(2)(B). To this end, 40 CFR 51.308(f) lays out the process by which States determine what constitutes their LTSs, with the order of the requirements in 40 CFR 51.308(f)(1) through (3) generally mirroring the order of the steps in the reasonable progress analysis ²⁰ and (f)(4) through (6) containing additional related requirements.

²⁰ EPA explained in the 2017 RHR Revisions that the Agency was adopting new regulatory language in 40 CFR 51.308(f) that, unlike the structure in 51.308(d), “tracked the actual planning sequence.” See 82 FR 3091, January 10, 2017.

Broadly speaking, a State first must identify the Class I areas within the State and determine the Class I areas outside the State in which visibility may be affected by emissions from the State. These are the Class I areas that must be addressed in the State's LTS. See 40 CFR 51.308(f), (f)(2). For each Class I area within its borders, a State must then calculate the baseline, current, and natural visibility conditions for that area, as well as the visibility improvement made to date and the URP. See 40 CFR 51.308(f)(1). Each State having a Class I area and/or emissions that may affect visibility in a Class I area must then develop a LTS that includes the enforceable emission limitations, compliance schedules, and other measures that are necessary to make reasonable progress in such areas. A reasonable progress determination is based on applying the four factors in CAA section 169A(g)(1) to sources of visibility impairing pollutants that the State has selected to assess for controls for the second planning period.

Additionally, as further explained below, the RHR at 40 CFR 51.3108(f)(2)(iv) separately provides five “additional factors” ²¹ that States must consider in developing their long-term strategies. See 40 CFR 51.308(f)(2). A State evaluates potential emission reduction measures for those selected sources and determines which are necessary to make reasonable progress. Those measures are then incorporated into the State's LTS. After a State has developed its LTS, it then establishes RPGs for each Class I area within its borders by modeling the visibility impacts of all reasonable progress controls at the end of the second planning period, i.e., in 2028, as well as the impacts of other requirements of the CAA. The RPGs include reasonable progress controls not only for sources in the State in which the Class I area is located, but also for sources in other States that contribute to visibility impairment in that area. The RPGs are then compared to the baseline visibility conditions and the URP to ensure that progress is being made toward the statutory goal of preventing any future and remedying any existing anthropogenic visibility impairment in Class I areas. See 40 CFR 51.308(f)(2)-(3).

²¹ The five “additional factors” for consideration in section 51.308(f)(2)(iv) are distinct from the four factors listed in CAA section 169A(g)(1) and 40 CFR 51.308(f)(2)(i) that States must consider and apply to sources in determining reasonable progress.

In addition to satisfying the requirements at 40 CFR 51.308(f) related to reasonable progress, the regional haze SIP revisions for the second planning period must address the requirements in 40 CFR 51.308(g)(1) through (5) pertaining to periodic reports describing progress toward the RPGs, 40 CFR 51.308(f)(5), as well as requirements for FLM consultation that apply to all visibility protection SIPs and SIP revisions. See 40 CFR 51.308(i).

A State must submit its regional haze SIP and subsequent SIP revisions to EPA according to the requirements applicable to all SIP revisions under the CAA and EPA's regulations. See CAA 169A(b)(2); CAA 110(a). Upon EPA approval, a SIP is enforceable by the Agency and the public under the CAA. If EPA finds that a State fails to make a required SIP revision, or if EPA finds that a State's SIP is incomplete or disapproves the SIP, the Agency must promulgate a Federal Implementation Plan (FIP) that satisfies the applicable requirements. See CAA 110(c)(1).

A. Identification of Class I Areas

The first step in developing a regional haze SIP is for a State to determine which Class I areas, in addition to those within its borders, “may be affected” by emissions from within the State. In the 1999 RHR, EPA determined that all States contribute to visibility impairment in at least one Class I area, 64 FR at 35720-22, and explained that the statute and regulations lay out an “extremely low triggering threshold” for determining “whether States should be required to engage in air quality planning and analysis as a prerequisite to determining the need for control of emissions from sources within their State.” Id. at 35721.

A State must determine which Class I areas must be addressed by its SIP by evaluating the total emissions of visibility impairing pollutants from all sources within the State. While the RHR does not require this evaluation to be conducted in any particular manner, EPA's 2019 Guidance provides recommendations for how such an assessment might be accomplished, including by, where appropriate, using the determinations previously made for the first planning period. 2019 Guidance at 8-9. In addition, the determination of which Class I areas may be affected by a State's emissions is subject to the requirement in 40 CFR 51.308(f)(2)(iii) to “document the technical basis, including modeling, monitoring, cost, engineering, and emissions information, on which the State is relying to determine the emission reduction measures that are necessary to make reasonable progress in each mandatory Class I Federal area it affects.”

B. Calculations of Baseline, Current, and Natural Visibility Conditions; Progress to Date; and the Uniform Rate of Progress

As part of assessing whether a SIP submission for the second planning period is providing for reasonable progress toward the national visibility goal, the RHR contains requirements in 40 CFR 51.308(f)(1) related to tracking visibility improvement over time. The requirements of this subsection apply only to States having Class I areas within their borders; the required calculations must be made for each such Class I area. EPA's 2018 Visibility Tracking Guidance ²² provides recommendations to assist States in satisfying their obligations under section 51.308(f)(1); specifically, in developing information on baseline, current, and natural visibility conditions, and in making optional adjustments to the URP to account for the impacts of international anthropogenic emissions and prescribed fires. See 82 FR at 3103-05.

²² The 2018 Visibility Tracking Guidance references and relies on parts of the 2003 Tracking Guidance: “Guidance for Tracking Progress Under the Regional Haze Rule” which can be found at https://www.epa.gov/sites/default/files/2021-03/documents/tracking.pdf. EPA Office of Air Quality Planning and Standards, Research Triangle Park (September 2003).

The RHR requires tracking of visibility conditions on two sets of days: the clearest and the most impaired days. Visibility conditions for both sets of days are expressed as the average deciview index for the relevant five-year period (the period representing baseline or current visibility conditions).²³ The RHR provides that the relevant sets of days for visibility tracking purposes are the 20 percent clearest days (the 20 percent of monitored days in a calendar year with the lowest values of the deciview index) and 20 percent most impaired days (the 20 percent of monitored days in a calendar year with the highest amounts of anthropogenic visibility impairment).²⁴ See 40 CFR 51.301. A State must calculate visibility conditions for both the 20 percent clearest days and 20 percent most impaired days for the baseline period of 2000-2004 and the most recent five-year period for which visibility monitoring data are available (representing current visibility conditions). See 40 CFR 51.308(f)(1)(i), (iii). States must also calculate natural visibility conditions for the clearest days and most impaired days ²⁵ by estimating the conditions that would exist on those two sets of days absent anthropogenic visibility impairment. See 40 CFR 51.308(f)(1)(ii). Using all these data, States must then calculate, for each Class I area, the amount of progress made since the baseline period (2000-2004) and how much improvement is left to achieve to reach natural visibility conditions.

²³ The “deciview index” means a value for a day that is derived from calculated or measured light extinction, such that uniform increments of the index correspond to uniform incremental changes in perception across the entire range of conditions, from pristine to very obscured. The deciview index is calculated using Interagency Monitoring of Protected Visual Environments (IMPROVE) aerosol measurements. See 40 CFR 51.301.

²⁴ This notice also refers to the 20 percent clearest and 20 percent most anthropogenically impaired days as the “clearest” and “most impaired” or “most anthropogenically impaired” days, respectively.

²⁵ The RHR at 40 CFR 51.308(f)(1)(ii) contains an error related to the requirement for calculating two sets of natural conditions values. The rule says “most impaired days or the clearest days” where it should say “most impaired days and clearest days.” This is an error that was intended to be corrected in the 2017 RHR Revisions but did not get corrected in the final rule language. This is supported by the preamble text at 82 FR 3098: “In the final version of 40 CFR 51.308(f)(1)(ii), an occurrence of “or” has been corrected to “and” to indicate that natural visibility conditions for both the most impaired days and the clearest days must be based on available monitoring information.”

Using the data for the set of most impaired days only, States must plot a line between visibility conditions in the baseline period and natural visibility conditions for each Class I area to determine the URP—the amount of visibility improvement, measured in deciviews, that would need to be achieved during each planning period to achieve natural visibility conditions by the end of 2064. The URP is used in later steps of the reasonable progress analysis for informational purposes and to provide a non-enforceable benchmark against which to assess a Class I area's rate of visibility improvement.²⁶ Additionally, in the 2017 RHR Revisions, EPA provided States the option of proposing to adjust the endpoint of the URP to account for impacts of anthropogenic sources outside the United States and/or impacts of certain types of wildland prescribed fires. These adjustments, which must be approved by EPA, are intended to avoid any perception that States should compensate for impacts from international anthropogenic sources and to give States the flexibility to determine that limiting the use of wildland prescribed fire is not necessary for reasonable progress. See 82 FR 3107, footnote 116.

²⁶ Being on or below the URP is not a “safe harbor”; i.e., achieving the URP does not mean that a Class I area is making “reasonable progress” and does not relieve a State from using the four statutory factors to determine what level of control is needed to achieve such progress. See, e.g., 82 FR at 3093.

EPA's 2018 Visibility Tracking Guidance can be used to help satisfy the 40 CFR 51.308(f)(1) requirements, including in developing information on baseline, current, and natural visibility conditions, and in making optional adjustments to the URP. In addition, the 2020 Data Completeness Memo provides recommendations on the data completeness language referenced in 40 CFR 51.308(f)(1)(i) and provides updated natural conditions estimates for each Class I area.

C. Long-Term Strategy for Regional Haze

The core component of a regional haze SIP submission is a LTS that addresses regional haze in each Class I area within a State's borders and each Class I area that may be affected by emissions from the State. The LTS “must include the enforceable emissions limitations, compliance schedules, and other measures that are necessary to make reasonable progress, as determined pursuant to (f)(2)(i) through (iv).” See 40 CFR 51.308(f)(2). The amount of progress that is “reasonable progress” is based on applying the four statutory factors in CAA section 169A(g)(1) in an evaluation of potential control options for sources of visibility impairing pollutants, which is referred to as a “four-factor” analysis (FFA). The outcome of that analysis is the emission reduction measures that a particular source or group of sources needs to implement in order to make reasonable progress toward the national visibility goal. See 40 CFR 51.308(f)(2)(i). Emission reduction measures that are necessary to make reasonable progress may be either new, additional control measures for a source or the existing emission reduction measures that a source is already implementing. See 2019 Guidance at 43; 2021 Clarifications Memo at 8-10. Such measures must be represented by “enforceable emissions limitations, compliance schedules, and other measures” (i.e., any additional compliance tools) in a State's LTS in its SIP. See 40 CFR 51.308(f)(2).

Section 51.308(f)(2)(i) provides the requirements for the FFA. The first step of this analysis entails selecting the sources to be evaluated for emission reduction measures; to this end, States should consider “major and minor stationary sources or groups of sources, mobile sources, and area sources” of visibility impairing pollutants for potential control analysis (i.e., FFA). 40 CFR 51.308(f)(2)(i). A threshold question at this step is which visibility impairing pollutants will be analyzed. As EPA previously explained, consistent with the first planning period, EPA generally expects that each State will analyze at least SO2 and NOx in selecting sources and determining control measures. See 2019 Guidance at 12 and 2021 Clarifications Memo at 4. A State that chooses not to consider at least these two pollutants should demonstrate why such consideration would be unreasonable. See 2021 Clarifications Memo at 4.

While States have the option to analyze all sources, the 2019 Guidance explains that “an analysis of control measures is not required for every source in each implementation period,” and that “[s]electing a set of sources for analysis of control measures in each implementation period is consistent with the Regional Haze Rule, which sets up an iterative planning process and anticipates that a State may not need to analyze control measures for all its sources in a given SIP revision.” 2019 Guidance at 9. However, given that source selection is the basis of all subsequent control determinations, a reasonable source selection process “should be designed and conducted to ensure that source selection results in a set of pollutants and sources the evaluation of which has the potential to meaningfully reduce their contributions to visibility impairment.” See 2021 Clarifications Memo at 3.

EPA explained in the 2021 Clarifications Memo that each State has an obligation to submit a LTS that addresses the regional haze visibility impairment that results from emissions from within that State. Thus, source selection should focus on the in-State contribution to visibility impairment and be designed to capture a meaningful portion of the State's total contribution to visibility impairment in Class I areas. A State should not decline to select its largest in-state sources on the basis that there are even larger out-of-state contributors. See 2021 Clarifications Memo at 4.²⁷

²⁷ Similarly, in responding to comments on the 2017 RHR Revisions EPA explained that “[a] state should not fail to address its many relatively low-impact sources merely because it only has such sources and another state has even more low-impact sources and/or some high impact sources.” Responses to Comments on Protection of Visibility: Amendments to Requirements for State Plans; Proposed Rule (81 FR 26942, May 4, 2016) (December 2016), Docket Number EPA-HQ-OAR-2015-0531, U.S. Environmental Protection Agency at 87-88, available at www.regulations.gov.

Thus, while States have discretion to choose any source selection methodology that is reasonable, whatever choices they make should be reasonably explained. To this end, 40 CFR 51.308(f)(2)(i) requires that a State's implementation plan submission include “a description of the criteria it used to determine which sources or groups of sources it evaluated.” The technical basis for source selection, which may include methods for quantifying potential visibility impacts such as emissions divided by distance metrics, trajectory analyses, residence time analyses, and/or photochemical modeling, must also be appropriately documented, as required by 40 CFR 51.308(f)(2)(iii).

Once a State has selected the set of sources, the next step is to determine the emissions reduction measures for those sources that are necessary to make reasonable progress for the second planning period.²⁸ This is accomplished by considering the four factors—“the costs of compliance, the time necessary for compliance, and the energy and non-air quality environmental impacts of compliance, and the remaining useful life of any existing source subject to such requirements.” See CAA 169A(g)(1). EPA has explained that the FFA is an assessment of potential emission reduction measures (i.e., control options) for sources; “use of the terms `compliance' and `subject to such requirements' in section 169A(g)(1) strongly indicates that Congress intended the relevant determination to be the requirements with which sources would have to comply in order to satisfy the CAA's reasonable progress mandate.” See 82 FR at 3091. Thus, for each source a State has selected for a FFA,²⁹ it must consider a “meaningful set” of technically feasible control options for reducing emissions of visibility impairing pollutants. Id. at 3088. The 2019 Guidance provides that “[a] state must reasonably pick and justify the measures that it will consider, recognizing that there is no statutory or regulatory requirement to consider all technically feasible measures or any particular measures. A range of technically feasible measures available to reduce emissions would be one way to justify a reasonable set.” See 2019 Guidance at 29.

²⁸ The CAA provides that “[i]n determining reasonable progress there shall be taken into consideration” the four statutory factors. CAA 169A(g)(1). However, in addition to four-factor analyses for selected sources, groups of sources, or source categories, a State may also consider additional emission reduction measures for inclusion in its long-term strategy, e.g., from other newly adopted, on-the-books, or on-the-way rules and measures for sources not selected for four-factor analysis for the second planning period.

²⁹ “Each source” or “particular source” is used here as shorthand. While a source-specific analysis is one way of applying the four factors, neither the statute nor the RHR requires States to evaluate individual sources. Rather, States have “the flexibility to conduct four-factor analyses for specific sources, groups of sources or even entire source categories, depending on state policy preferences and the specific circumstances of each state.” See 82 FR at 3088. However, not all approaches to grouping sources for four-factor analysis are necessarily reasonable; the reasonableness of grouping sources in any particular instance will depend on the circumstances and the manner in which grouping is conducted. If it is feasible to establish and enforce different requirements for sources or subgroups of sources, and if relevant factors can be quantified for those sources or subgroups, then States should make a separate reasonable progress determination for each source or subgroup. See 2021 Clarifications Memo at 7-8.

EPA's 2021 Clarifications Memo provides further guidance on what constitutes a reasonable set of control options for consideration: “A reasonable four-factor analysis will consider the full range of potentially reasonable options for reducing emissions.” See 2021 Clarifications Memo at 7. In addition to add-on controls and other retrofits (i.e., new emission reduction measures for sources), EPA explained that States should generally analyze efficiency improvements for sources' existing measures as control options in their FFAs, as in many cases such improvements are reasonable given that they typically involve only additional operation and maintenance costs. Additionally, the 2021 Clarifications Memo provides that States that have assumed a higher emission rate than a source has achieved or could potentially achieve using its existing measures should also consider lower emission rates as potential control options. That is, a State should consider a source's recent actual and projected emission rates to determine if it could reasonably attain lower emission rates with its existing measures. If so, the State should analyze the lower emission rate as a control option for reducing emissions. See 2021 Clarifications Memo at 7. EPA's recommendations to analyze potential efficiency improvements and achievable lower emission rates apply to both sources that have been selected for FFA and those that have forgone a FFA on the basis of existing “effective controls.” See 2021 Clarifications Memo at 5, 10.

After identifying a reasonable set of potential control options for the sources it has selected, a State then collects information on the four factors with regard to each option identified. EPA has also explained that, in addition to the four statutory factors, States have flexibility under the CAA and RHR to reasonably consider visibility benefits as an additional factor alongside the four statutory factors.³⁰ The 2019 Guidance provides recommendations for the types of information that can be used to characterize the four factors (with or without visibility), as well as ways in which States might reasonably consider and balance that information to determine which of the potential control options is necessary to make reasonable progress. See 2019 Guidance at 30-36. The 2021 Clarifications Memo contains further guidance on how States can reasonably consider modeled visibility impacts or benefits in the context of a FFA. See 2021 Clarifications Memo at 12-13, 14-15. Specifically, EPA explained that while visibility can reasonably be used when comparing and choosing between multiple reasonable control options, it should not be used to summarily reject controls that are reasonable given the four statutory factors. See 2021 Clarifications Memo at 13. Ultimately, while States have discretion to reasonably weigh the factors and to determine what level of control is needed, 40 CFR 51.308(f)(2)(i) provides that a State “must include in its implementation plan a description” of how the four factors were taken into consideration in selecting the measure for inclusion in its long-term strategy.

³⁰ See, e.g., Responses to Comments on Protection of Visibility: Amendments to Requirements for State Plans; Proposed Rule (81 FR 26942, May 4, 2016) (December 2016), Docket Number EPA-HQ-OAR-2015-0531, U.S. Environmental Protection Agency at 186, available at www.regulations.gov; 2019 Guidance at 36-37.

As explained above, section 51.308(f)(2)(i) requires States to determine the emission reduction measures for sources that are necessary to make reasonable progress by considering the four factors. Pursuant to section 51.308(f)(2), measures that are necessary to make reasonable progress toward the national visibility goal must be included in a State's LTS and in its SIP.³¹ If the outcome of a FFA is a new, additional emission reduction measure for a source, that new measure is necessary to make reasonable progress toward remedying existing anthropogenic visibility impairment and must be included in the SIP. If the outcome of a FFA is that no new measures are reasonable for a source, continued implementation of the source's existing measures is generally necessary to prevent future emission increases and thus to make reasonable progress toward the second part of the national visibility goal: preventing future anthropogenic visibility impairment. See CAA 169A(a)(1). That is, when the result of a FFA is that no new measures are necessary to make reasonable progress, the source's existing measures are generally necessary to make reasonable progress and must be included in the SIP. However, there may be circumstances in which a State can demonstrate that a source's existing measures are not necessary to make reasonable progress. Specifically, if a State can demonstrate that a source will continue to implement its existing measures and will not increase its emission rate, it may not be necessary to have those measures in the LTS in order to prevent future emission increases and future visibility impairment. EPA's 2021 Clarifications Memo provides further explanation and guidance on how States may demonstrate that a source's existing measures are not necessary to make reasonable progress. See 2021 Clarifications Memo at 8-10. If the State can make such a demonstration, it need not include a source's existing measures in the LTS or its SIP.

³¹ States may choose to, but are not required to, include measures in their long-term strategies beyond just the emission reduction measures that are necessary for reasonable progress. See 2021 Clarifications Memo at 16. For example, States with smoke management programs may choose to submit their smoke management plans to EPA for inclusion in their SIPs but are not required to do so. See, e.g., 82 FR at 3108-09 (requirement to consider smoke management practices and smoke management programs under 40 CFR 51.308(f)(2)(iv) does not require States to adopt such practices or programs into their SIPs, although they may elect to do so).

As with source selection, the characterization of information on each of the factors is also subject to the documentation requirement in section 51.308(f)(2)(iii). The reasonable progress analysis, including source selection, information gathering, characterization of the four statutory factors (and potentially visibility), balancing of the four factors, and selection of the emission reduction measures that represent reasonable progress, is a technically complex exercise, but also a flexible one that provides States with bounded discretion to design and implement approaches appropriate to their circumstances. Given this flexibility, section 51.308(f)(2)(iii) plays an important function in requiring a State to document the technical basis for its decision making so that the public and EPA can comprehend and evaluate the information and analysis the State relied upon to determine what emission reduction measures must be in place to make reasonable progress. The technical documentation must include the modeling, monitoring, cost, engineering, and emissions information on which the State relied to determine the measures necessary to make reasonable progress. This documentation requirement can be met through the provision of and reliance on technical analyses developed through a regional planning process, so long as that process and its output has been approved by all State participants. In addition to the explicit regulatory requirement to document the technical basis of their reasonable progress determinations, States are also subject to the general principle that those determinations must be reasonably moored to the statute.³² That is, a State's decisions about the emission reduction measures that are necessary to make reasonable progress must be consistent with the statutory goal of remedying existing and preventing future visibility impairment.

³² See Arizona ex rel. Darwin v. U.S. EPA, 815 F.3d 519, 531 (9th Cir. 2016); Nebraska v. U.S. EPA, 812 F.3d 662, 668 (8th Cir. 2016); North Dakota v. EPA, 730 F.3d 750, 761 (8th Cir. 2013); Oklahoma v. EPA, 723 F.3d 1201, 1206, 1208-10 (10th Cir. 2013); cf. also Nat'l Parks Conservation Ass'n v. EPA, 803 F.3d 151, 165 (3d Cir. 2015); Alaska Dep't of Envtl. Conservation v. EPA, 540 U.S. 461, 485, 490 (2004).

The four statutory factors (and potentially visibility) are used to determine what emission reduction measures for selected sources must be included in a State's LTS for making reasonable progress. Additionally, the RHR at 40 CFR 51.3108(f)(2)(iv) separately provides five “additional factors” ³³ that States must consider in developing their LTSs: (1) Emission reductions due to ongoing air pollution control programs, including measures to address reasonably attributable visibility impairment; (2) measures to reduce the impacts of construction activities; (3) source retirement and replacement schedules; (4) basic smoke management practices for prescribed fire used for agricultural and wildland vegetation management purposes and smoke management programs; and (5) the anticipated net effect on visibility due to projected changes in point, area, and mobile source emissions over the period addressed by the LTS. The 2019 Guidance provides that a State may satisfy this requirement by considering these additional factors in the process of selecting sources for a FFA, when performing that analysis, or both, and that not every one of the additional factors needs to be considered at the same stage of the process. See 2019 Guidance at 21. EPA provided further guidance on the five additional factors in the 2021 Clarifications Memo, explaining that a State should generally not reject cost-effective and otherwise reasonable controls merely because there have been emission reductions since the first planning period owing to other ongoing air pollution control programs or merely because visibility is otherwise projected to improve at Class I areas. Additionally, States generally should not rely on these additional factors to summarily assert that the State has already made sufficient progress and, therefore, no sources need to be selected or no new controls are needed regardless of the outcome of FFAs. See 2021 Clarifications Memo at 13.

³³ The five “additional factors” for consideration in section 51.308(f)(2)(iv) are distinct from the four factors listed in CAA section 169A(g)(1) and 40 CFR 51.308(f)(2)(i) that States must consider and apply to sources in determining reasonable progress.

Because the air pollution that causes regional haze crosses State boundaries, 40 CFR 51.308(f)(2)(ii) requires a State to consult with other States that also have emissions that are reasonably anticipated to contribute to visibility impairment in a given Class I area. Consultation allows for each State that impacts visibility in an area to share whatever technical information, analyses, and control determinations may be necessary to develop coordinated emission management strategies. This coordination may be managed through inter- and intra-RPO consultation and the development of regional emissions strategies; additional consultations between States outside of RPO processes may also occur. If a State, pursuant to consultation, agrees that certain measures (e.g., a certain emission limitation) are necessary to make reasonable progress at a Class I area, it must include those measures in its SIP. See 40 CFR 51.308(f)(2)(ii)(A). Additionally, the RHR requires that States that contribute to visibility impairment at the same Class I area consider the emission reduction measures the other contributing States have identified as being necessary to make reasonable progress for their own sources. See 40 CFR 51.308(f)(2)(ii)(B). If a State has been asked to consider or adopt certain emission reduction measures, but ultimately determines those measures are not necessary to make reasonable progress, that State must document in its SIP the actions taken to resolve the disagreement. See 40 CFR 51.308(f)(2)(ii)(C). EPA will consider the technical information and explanations presented by the submitting State and the State with which it disagrees when considering whether to approve the State's implementation plan. See id.; 2019 Guidance at 53. Under all circumstances, a State must document in its SIP submission all substantive consultations with other contributing States. See 40 CFR 51.308(f)(2)(ii)(C).

D. Reasonable Progress Goals

RPGs “measure the progress that is projected to be achieved by the control measures States have determined are necessary to make reasonable progress based on a four-factor analysis.” See 82 FR at 3091. Their primary purpose is to assist the public and EPA in assessing the reasonableness of States' LTSs for making reasonable progress toward the national visibility goal. See 40 CFR 51.308(f)(3)(iii)-(iv). States in which Class I areas are located must establish two RPGs—one representing visibility conditions on the clearest days and one representing visibility on the most anthropogenically impaired days—for each area within their borders. See 40 CFR 51.308(f)(3)(i). The two RPGs, measured in deciviews, are intended to reflect the projected impacts, on each set of days, of the emission reduction measures the State with the Class I area and other contributing States have included in their LTSs for the second planning period.³⁴ The RPGs also account for the projected impacts of implementing other CAA requirements, including non-SIP based requirements. Because RPGs are the modeled result of the measures in States' LTSs (as well as other measures required under the CAA), they cannot be determined before States have conducted their FFAs and determined the control measures that are necessary to make reasonable progress.³⁵ See 2021 Clarifications Memo at 6.

³⁴ RPGs are intended to reflect the projected impacts of the measures all contributing States include in their long-term strategies. However, due to the timing of analyses, control determinations by other States, and other on-going emissions changes, a particular State's RPGs may not reflect all control measures and emissions reductions that are expected to occur by the end of the implementation period. The 2019 Guidance provides recommendations for addressing the timing of RPG calculations when States are developing their long-term strategies on disparate schedules, as well as for adjusting RPGs using a post-modeling approach. 2019 Guidance at 47-48.

³⁵ The 2019 Guidance allows for the possibility of post-modeling adjustments to the RPGs to account for the fact that final LTS decisions for the State or for other States may not be known until late in the process, or even after SIPs are submitted. See 2019 Guidance at 46-48. See also, 82 FR 3078, 3080 (January 10, 2017).

For the second planning period, the RPGs are set for 2028. RPGs are not enforceable targets, 40 CFR 51.308(f)(3)(iii); rather, they “provide a way for the States to check the projected outcome of the [long-term strategy] against the goals for visibility improvement.” 2019 Guidance at 46. While States are not legally obligated to achieve the visibility conditions described in their RPGs, section 51.308(f)(3)(i) requires that “[t]he long-term strategy and the reasonable progress goals must provide for an improvement in visibility for the most impaired days since the baseline period and ensure no degradation in visibility for the clearest days since the baseline period.” Thus, States are required to have emission reduction measures in their LTSs that are projected to achieve visibility conditions on the most impaired days that are better than the baseline period and shows no degradation on the clearest days compared to the clearest days from the baseline period. The baseline period for the purpose of this comparison is the baseline visibility condition—the annual average visibility condition for the period 2000-2004. See 40 CFR 51.308(f)(1)(i), 82 FR at 3097-98.

So that RPGs may also serve as a metric for assessing the amount of progress a State is making toward the national visibility goal, the RHR requires States with Class I areas to compare the 2028 RPG for the most impaired days to the corresponding point on the URP line (representing visibility conditions in 2028 if visibility were to improve at a linear rate from conditions in the baseline period of 2000-2004 to natural visibility conditions in 2064). If the most impaired days RPG in 2028 is above the URP (i.e., if visibility conditions are improving more slowly than the rate described by the URP), each State that contributes to visibility impairment in the Class I area must demonstrate, based on the FFA required under 40 CFR 51.308(f)(2)(i), that no additional emission reduction measures would be reasonable to include in its LTS. See 40 CFR 51.308(f)(3)(ii). To this end, 40 CFR 51.308(f)(3)(ii) requires that each State contributing to visibility impairment in a Class I area that is projected to improve more slowly than the URP provide “a robust demonstration, including documenting the criteria used to determine which sources or groups [of] sources were evaluated and how the four factors required by paragraph (f)(2)(i) were taken into consideration in selecting the measures for inclusion in its long-term strategy.” The 2019 Guidance provides suggestions about how such a “robust demonstration” might be conducted. See 2019 Guidance at 50-51.

The 2017 RHR, 2019 Guidance, and 2021 Clarifications Memo also explain that projecting an RPG that is on or below the URP based on only on-the-books and/or on-the-way control measures (i.e., control measures already required or anticipated before the FFA is conducted) is not a “safe harbor” from the CAA's and RHR's requirement that all States must conduct a FFA to determine what emission reduction measures constitute reasonable progress.³⁶ The URP is a planning metric used to gauge the amount of progress made thus far and the amount left before reaching natural visibility conditions. However, the URP is not based on consideration of the four statutory factors and therefore cannot answer the question of whether the amount of progress being made in any particular planning period is “reasonable progress.” See 82 FR at 3093, 3099-3100; 2019 Guidance at 22; 2021 Clarifications Memo at 15-16.

³⁶ In lieu of conducting an FFA, States may elect to show the source has existing effective controls for the particular pollutant(s) under evaluation or that the source is shutting down by the end of the planning period (or close to it).

E. Monitoring Strategy and Other State Implementation Plan Requirements

Section 51.308(f)(6) requires States to have certain strategies and elements in place for assessing and reporting on visibility. Individual requirements under this subsection apply either to States with Class I areas within their borders, States with no Class I areas but that are reasonably anticipated to cause or contribute to visibility impairment in any Class I area, or both. A State with Class I areas within its borders must submit with its SIP revision a monitoring strategy for measuring, characterizing, and reporting regional haze visibility impairment that is representative of all Class I areas within the State. SIP revisions for such States must also provide for the establishment of any additional monitoring sites or equipment needed to assess visibility conditions in Class I areas, as well as reporting of all visibility monitoring data to EPA at least annually. Compliance with the monitoring strategy requirement may be met through a State's participation in the IMPROVE monitoring network, which is used to measure visibility impairment caused by air pollution at the 156 Class I areas covered by the visibility program. See 40 CFR 51.308(f)(6), (f)(6)(i), (f)(6)(iv). The IMPROVE monitoring data is used to determine the 20 percent most anthropogenically impaired and 20 percent clearest sets of days every year at each Class I area and tracks visibility impairment over time.

All States' implementation plans must provide for procedures by which monitoring data and other information are used to determine the contribution of emissions from within the State to regional haze visibility impairment in affected Class I areas. See 40 CFR 51.308(f)(6)(ii), (iii). Section 51.308(f)(6)(v) further requires that all States' implementation plans provide for a statewide inventory of emissions of pollutants that are reasonably anticipated to cause or contribute to visibility impairment in any Class I area; the inventory must include emissions for the most recent year for which data are available and estimates of future projected emissions. States must also include commitments to update their inventories periodically. The inventories themselves do not need to be included as elements in the SIP and are not subject to EPA review as part of the Agency's evaluation of a SIP revision.³⁷ All States' implementation plans must also provide for any other elements, including reporting, recordkeeping, and other measures, that are necessary for States to assess and report on visibility. See 40 CFR 51.308(f)(6)(vi). Per the 2019 Guidance, a State may note in its regional haze SIP that its compliance with the Air Emissions Reporting Rule (AERR) in 40 CFR part 51 subpart A satisfies the requirement to provide for an emissions inventory for the most recent year for which data are available. To satisfy the requirement to provide estimates of future projected emissions, a State may explain in its SIP how projected emissions were developed for use in establishing RPGs for its own and nearby Class I areas.³⁸

³⁷ See “Step 8: Additional requirements for regional haze SIPs” in 2019 Guidance at 55.

³⁸ Id.

Separate from the requirements related to monitoring for regional haze purposes under 40 CFR 51.308(f)(6), the RHR also contains a requirement at 40 CFR 51.308(f)(4) related to any additional monitoring that may be needed to address visibility impairment in Class I areas from a single source or a small group of sources. This is called “reasonably attributable visibility impairment.” ³⁹ Under this provision, if EPA or the FLM of an affected Class I area has advised a State that additional monitoring is needed to assess reasonably attributable visibility impairment (RAVI), the State must include in its SIP revision for the second planning period an appropriate strategy for evaluating such impairment.

³⁹ EPA's visibility protection regulations define “reasonably attributable visibility impairment” as “visibility impairment that is caused by the emission of air pollutants from one, or a small number of sources.” See 40 CFR 51.301.

F. Requirements for Periodic Reports Describing Progress Toward the Reasonable Progress Goals

Section 51.308(f)(5) requires a State's regional haze SIP revision to address the requirements of paragraphs 40 CFR 51.308(g)(1) through (5) so that the plan revision due in 2021 will serve also as a progress report addressing the period since submission of the progress report for the first planning period. The regional haze progress report requirement is designed to inform the public and EPA about a State's implementation of its existing LTS and whether such implementation is in fact resulting in the expected visibility improvement. See 81 FR 26942, 26950 (May 4, 2016), 82 FR 3119 (January 10, 2017). To this end, every State's implementation plan revision for the second planning period is required to describe the status of implementation of all measures included in the State's LTS, including BART and reasonable progress emission reduction measures from the first planning period, and the resulting emissions reductions. See 40 CFR 51.308(g)(1) and (2).

A core component of the progress report requirements is an assessment of changes in visibility conditions on the clearest and most impaired days. For second planning period progress reports, 40 CFR 51.308(g)(3) requires States with Class I areas within their borders to first determine current visibility conditions for each area on the most impaired and clearest days, 40 CFR 51.308(g)(3)(i), and then to calculate the difference between those current conditions and baseline (2000-2004) visibility conditions in order to assess progress made to date. See 40 CFR 51.308(g)(3)(ii). States must also assess the changes in visibility impairment for the most impaired and clearest days since they submitted their first planning period progress reports. See 40 CFR 51.308(g)(3)(iii), (f)(5). Since different States submitted their first planning period progress.

Similarly, States must provide analyses tracking the change in emissions of pollutants contributing to visibility impairment from all sources and activities within the State over the period since they submitted their first planning period progress reports. See 40 CFR 51.308(g)(4), (f)(5). Changes in emissions should be identified by the type of source or activity. Section 51.308(g)(5) also addresses changes in emissions since the period addressed by the previous progress report and requires States' implementation plan revisions to include an assessment of any significant changes in anthropogenic emissions within or outside the State. This assessment must include an explanation of whether these changes in emissions were anticipated and whether they have limited or impeded progress in reducing emissions and improving visibility relative to what the State projected based on its LTS for the first planning period.

G. Requirements for State and Federal Land Manager Coordination

CAA section 169A(d) requires that before a State holds a public hearing on a proposed regional haze SIP revision, it must consult with the appropriate FLM or FLMs; pursuant to that consultation, the State must include a summary of the FLMs' conclusions and recommendations in the notice to the public. Consistent with this statutory requirement, the RHR also requires that States “provide the [FLM] with an opportunity for consultation, in person and at a point early enough in the State's policy analyses of its long-term strategy emission reduction obligation so that information and recommendations provided by the [FLM] can meaningfully inform the State's decisions on the long-term strategy.” See 40 CFR 51.308(i)(2). Consultation that occurs 120 days prior to any public hearing or public comment opportunity will be deemed “early enough,” but the RHR provides that in any event the opportunity for consultation must be provided at least 60 days before a public hearing or comment opportunity. This consultation must include the opportunity for the FLMs to discuss their assessment of visibility impairment in any Class I area and their recommendations on the development and implementation of strategies to address such impairment. See 40 CFR 51.308(i)(2). In order for EPA to evaluate whether FLM consultation meeting the requirements of the RHR has occurred, the SIP submission should include documentation of the timing and content of such consultation. The SIP revision submitted to EPA must also describe how the State addressed any comments provided by the FLMs. See 40 CFR 51.308(i)(3). Finally, a SIP revision must provide procedures for continuing consultation between the State and FLMs regarding the State's visibility protection program, including development and review of SIP revisions, five-year progress reports, and the implementation of other programs having the potential to contribute to impairment of visibility in Class I areas. See 40 CFR 51.308(i)(4).

IV. EPA's Evaluation of Georgia's Haze Submission for the Second Planning Period

On August 11, 2022, GA EPD submitted a revision to the Georgia SIP to address the State's regional haze obligations for the second planning period, which runs through 2028, in accordance with CAA sections 169A and the RHR at 40 CFR 51.308(f).⁴⁰ The following sections contain EPA's evaluation of Georgia's Haze Plan with respect to the requirements of the CAA and RHR for the second planning period of the regional haze program. Georgia has three Class I areas: Cohutta National Wilderness Area (Cohutta), Okefenokee National Wilderness Area (Okefenokee), and Wolf Island National Wilderness Area (Wolf Island). The following sections describe Georgia's Haze Plan, including analyses conducted by VISTAS and Georgia's determinations based on those analyses, Georgia's assessment of progress made since the first planning period in reducing emissions of visibility impairing pollutants, and the visibility improvement progress at its Class I areas and nearby Class I areas. This notice also contains EPA's evaluation of Georgia's Haze Plan against the requirements of the CAA and RHR for the second planning period of the regional haze program.

⁴⁰ On June 28, 2012 (77 FR 38501), EPA issued a limited approval of Georgia's first period regional haze plan submitted to EPA on February 11, 2010, as supplemented November 19, 2010. On June 7, 2012, EPA finalized a limited disapproval of Georgia's first period haze plan and promulgated a FIP to replace reliance on the Clean Air Interstate Rule (CAIR) with reliance on the Cross-State Air Pollution Rule (CSAPR) (77 FR 33642). On May 4, 2018, EPA converted the previous limited approval/limited disapproval of Georgia's first period haze plan to a full approval and removed the FIP for Georgia which replaced reliance on CAIR with reliance on CSAPR (83 FR 19637). On October 4, 2017, EPA also approved Georgia's January 8, 2014, progress report for the first planning period (82 FR 46136).

A. Identification of Class I Areas

1. RHR Requirement: Section 169A(b)(2) of the CAA requires each State in which any Class I area is located or “the emissions from which may reasonably be anticipated to cause or contribute to any impairment of visibility” in a Class I area to have a plan for making reasonable progress toward the national visibility goal. The RHR implements this statutory requirement at 40 CFR 51.308(f), which provides that each State's plan “must address regional haze in each mandatory Class I Federal area located within the State and in each mandatory Class I Federal area located outside the State that may be affected by emissions from within the State,” and 40 CFR 51.308(f)(2), which requires each State's plan to include a LTS that addresses regional haze in such Class I areas. To develop a State's LTS, a State must first determine which Class I areas may be affected by its own emissions. For out-of-state Class I areas, States must assess their visibility impacts on a statewide basis which is discussed in Section IV.A.2 below and on a source-specific basis which is discussed in Section IV.C.2 below.

2. State Assessment: To address 40 CFR 51.308(f), Georgia identified Class I areas affected by Georgia's statewide emissions of visibility impairing pollutants and then consulted with States with Class I areas affected by Georgia's statewide emissions. GA EPD presented the results of Particulate Matter Source Apportionment Technology (PSAT) ⁴¹ modeling which VISTAS conducted to estimate the projected impact of statewide SO2 and NOX emissions across all emissions sectors in 2028 on total light extinction for the 20 percent most impaired days in all Class I areas in the VISTAS modeling domain.⁴² In Table 7-4 on pages 143-144 of the Haze Plan, GA EPD lists the total sulfate plus nitrate contribution from all source sectors in Georgia to total visibility impairment for the 20 percent most impaired days at Class I areas in the VISTAS modeling domain in inverse megameters (Mm−¹). Georgia's top three highest sulfate plus nitrate impairment impacts to out-of-state Class I areas are: Cape Romain National Wilderness Area (Cape Romain) (SC) (2.19 Mm−¹), Chassahowitzka National Wilderness Area (Chassahowitzka) (FL) (1.31 Mm−¹), and St. Marks National Wilderness Area (FL) (1.31 Mm−¹).⁴³

⁴¹ PSAT is Particulate Matter Source Apportionment Technology, which is an option in the photochemical visibility impact modeling performed by VISTAS that is a methodology to track the fate of both primary and secondary PM. PSAT allows emissions to be tracked (“tagged”) for individual facilities as well as various combinations of sectors and geographic areas (e.g., by State). The PSAT results provide the modeled contribution of each of the tagged sources or groups of sources to the total visibility impacts.

⁴² Georgia did not include primary PM (directly emitted) data in this analysis because the PSAT analyses performed by VISTAS tagged statewide emissions of SO2 and NOX and did not tag primary total PM emissions in the analysis after concluding that emissions of the PM precursors SO2 and NOX, particularly from point sources, are projected to have the largest impact on visibility impairment in 2028 and that SO2 and NOX are the most significant visibility impairing pollutants from controllable anthropogenic sources.

⁴³ In contrast, Georgia's highest sulfate plus nitrate impairment impacts to the State's Class I areas are: 2.57 Mm−¹, 2.17 Mm−¹, and 1.04 Mm−¹ for Wolf Island, Okefenokee, and Cohutta, respectively.

Based on these results for the out-of-state Class I areas, GA EPD consulted with the VISTAS States, including Florida, North Carolina, and South Carolina. The purpose of this consultation was to identify whether Georgia's statewide impacts to the VISTAS and non-VISTAS States are significant enough to develop coordinated emission management strategies containing the emission reductions necessary to make reasonable progress. Consultation is further discussed in Section IV.C.2.e of this notice and in Section I.E of EPA's Technical Support Document (TSD) for this proposed rulemaking.

3. EPA Evaluation: EPA proposes to conclude that GA EPD adequately addressed the elements of 40 CFR 51.308(f) regarding identification of its statewide visibility impacts to Class I areas outside of the State and consulting with States with Class I areas which may reasonably be anticipated to cause or contribute to any impairment of visibility due to Georgia's emissions. EPA proposes to approve the State's approach of focusing on SO2 and NOX impacts from Georgia on the basis that for current visibility conditions evaluated for the 2014-2018 period, ammonium sulfate is the dominant visibility impairing pollutant at most of the VISTAS Class I areas followed by organic carbon and ammonium nitrate (depending on the area).⁴⁴ VISTAS focused on controllable emissions from point sources and thus, initially considered impacts from sulfates and nitrates on regional haze at Class I areas affected by VISTAS States. EPA proposes to find that Georgia satisfied 40 CFR 51.308(f)(2) related to the identification of Class I areas outside of Georgia that may be affected by emissions from within the State and consultation with affected States because the State analyzed its statewide sulfate and nitrate contributions to total visibility impairment at out-of-state Class I areas (see Table 7-4 of the Haze Plan); none of the Class I areas listed in Table 7-4 of the Haze Plan have 2028 RPGs on the 20 percent most impaired days above the URP; ⁴⁵ Georgia analyzed its in-state and out-of-state impacts through modeling (see, e.g., Haze Plan Table 7-4) ; and the State completed consultation with VISTAS States via the RPO processes and, in some cases, on a state-to-state basis and documented those consultations.⁴⁶

⁴⁴ See Figures 2-8 and 2-9 of the Haze Plan for the VISTAS Class I areas. See also Section IV.C.2.a of this document.

⁴⁵ See Memorandum from Richard A, Wayland, OAQPS, to Regional Air Division Directors re: Availability of Modeling Data and Associated Technical Support Document for the EPA's Updated 2028 Visibility Air Quality Modeling (September 19, 2019), available at: https://www.epa.gov/sites/default/files/2019-10/documents/updated_2028_regional_haze_modeling-tsd-2019_0.pdf.

⁴⁶ See Section IV.C.2.e of this notice and Section I.E. of EPA's TSD for additional detail regarding consultation.

B. Calculations of Baseline, Current, and Natural Visibility Conditions; Progress to Date; and the Uniform Rate of Progress

1. RHR Requirement: Section 51.308(f)(1) requires States to determine the following for “each mandatory Class I Federal area located within the State”: baseline visibility conditions for the clearest days and most impaired days, natural visibility conditions for the clearest days and most impaired days, progress to date for the clearest days and most impaired days, the differences between current visibility conditions and natural visibility conditions, and the URP. This section also provides the option for States to propose adjustments to the URP line for a Class I area to account for visibility impacts from anthropogenic sources outside the United States and/or the impacts from wildland prescribed fires that were conducted for certain, specified objectives. See 40 CFR 51.308(f)(1)(vi)(B).

2. State Assessment: In the Haze Plan, Georgia calculated the baseline visibility conditions (2000-2004) in Table 2-3, current visibility conditions (2014-2018) in Table 2-5,⁴⁷ and natural visibility conditions in Table 2-2 for the 20 percent clearest and 20 percent most impaired days in each Class I area in the State in deciviews. Georgia also calculated the actual progress made toward natural visibility conditions to date since the baseline period (current minus baseline), and the additional progress needed to reach natural visibility conditions from current conditions (natural minus current), in deciviews, in Table 2-6 (for the 20 percent most impaired days) and Table 2-7 (for the 20 percent clearest days) for Georgia's Class I areas, as shown in Table 2 below.

⁴⁷ The period 2014-2018 represents current visibility conditions for Georgia because it is the most recent five-year period for which visibility monitoring data was available at the time of SIP development.

Table 1—Baseline, Current and Natural Visibility Conditions in Georgia's Class I Areas in Deciviews
[dv]
Class I area | Baseline clearest 20% (dv) | Baseline most impaired 20% (dv) | Current clearest 20% (dv) | Current most impaired 20% (dv) | Natural clearest 20% (dv) | Natural most impaired 20% (dv)
Cohutta | 13.73 | 29.12 | 8.10 | 17.37 | 4.42 | 9.88
Okefenokee | 15.23 | 25.34 | 11.57 | 17.39 | 5.43 | 9.45
Wolf Island | 15.23 | 25.34 | 11.57 | 17.39 | 5.43 | 9.45

Table 2—Actual Progress for Visibility Conditions in Georgia's Class I Areas in Deciviews
[dv]
Class I area | Current minus baseline for 20% clearest (dv) | Current minus baseline for 20% most impaired (dv) | Natural minus current for 20% clearest (dv) | Natural minus current for 20% most impaired (dv)
Cohutta | 5.63 | 11.75 | 3.68 | 7.49
Okefenokee | 3.66 | 7.95 | 6.14 | 7.94
Wolf Island | 3.66 | 7.95 | 6.14 | 7.94

Additionally, Figures 3-1 and 3-2 of Georgia's Haze Plan provides the URP figures on the 20 percent most impaired days for Cohutta and Okefenokee, respectively. The URP shown in Figure 3-2 for Okefenokee is considered representative of Wolf Island.⁴⁸ The URPs were developed using EPA guidance ⁴⁹ and used data collected from the IMPROVE monitoring sites.

⁴⁸ Wolf Island has no IMPROVE monitor. Visibility at Wolf Island is assumed to be the same as the nearest Class I area monitor located at Okefenokee.

⁴⁹ https://www.epa.gov/sites/default/files/2018-12/documents/technical_guidance_tracking_visibility_progress.pdf and https://www.epa.gov/sites/default/files/2020-06/documents/memo_data_for_regional_haze_technical_addendum.pdf.

3. EPA Evaluation: EPA is proposing to find that Georgia's Haze Plan meets the requirements of 40 CFR 51.308(f)(1) because the State provided for its three Class I areas: baseline, current, and natural visibility conditions for the 20 percent clearest days and most impaired days; progress to date for the 20 percent clearest days and most impaired days; differences between current visibility conditions and natural visibility conditions; and the URP for each Class I area in Georgia.

C. Long-Term Strategy for Regional Haze

1. RHR Requirement: Each State having a Class I area within its borders or emissions that may affect visibility in a Class I area must develop a LTS for making reasonable progress toward the national visibility goal. See CAA 169A(b)(2)(B). As explained in Section II of this notice, reasonable progress is achieved when all States contributing to visibility impairment in a Class I area are implementing the measures determined—through application of the four statutory factors to sources of visibility impairing pollutants—to be necessary to make reasonable progress. See 40 CFR 51.308(f)(2)(i). Each State's LTS must include the enforceable emission limitations, compliance schedules, and other measures that are necessary to make reasonable progress. See 40 CFR 51.308(f)(2). All new (i.e., additional) measures that are the outcome of FFAs are necessary to make reasonable progress and must be in the LTS. If the conclusion of a FFA and other measures necessary to make reasonable progress for a particular source is that no new measures are reasonable, that source's existing measures are necessary to make reasonable progress, unless the State can demonstrate that the source will continue to implement those measures and will not increase its emission rate. Existing measures that are necessary to make reasonable progress must also be in the LTS. In developing its LTS, a State must also consider the five additional factors in section 51.308(f)(2)(iv). As part of its reasonable progress determinations, the State must describe the criteria used to determine which sources or group of sources were evaluated (i.e., subjected to FFA) for the second planning period and how the four factors were taken into consideration in selecting the emission reduction measures for inclusion in the LTS. See 40 CFR 51.308(f)(2)(iii).

States may rely on technical information developed by the RPOs of which they are members to select sources for FFA and to satisfy the documentation requirements under section 51.308(f). Where an RPO has performed source selection and/or FFAs (or considered the five additional factors in section 51.308(f)(2)(iv)) for its member States, those States may rely on the RPO's analyses for the purpose of satisfying the requirements of section 51.308(f)(2)(i) so long as the States have a reasonable basis to do so and all State participants in the RPO process have approved the technical analyses. See 40 CFR 51.308(f)(2)(iii). States may also satisfy the requirement of section 51.308(f)(2)(ii) to engage in interstate consultation with other States that have emissions that are reasonably anticipated to contribute to visibility impairment in a given Class I area under the auspices of intra- and inter-RPO engagement.

The consultation requirements of section 51.308(f)(2)(ii) provide that States must consult with other States that are reasonably anticipated to contribute to visibility impairment in a Class I area to develop coordinated emission management strategies containing the emission reductions measures that are necessary to make reasonable progress. Section 51.308(f)(2)(ii)(A) and (B) require States to consider the emission reduction measures identified by other States as necessary for reasonable progress and to include agreed upon measures in their SIPs, respectively. Section 51.308(f)(2)(ii)(C) speaks to what happens if States cannot agree on what measures are necessary to make reasonable progress. The documentation requirement of section 51.308(f)(2)(iii) provides that States may meet their obligations to document the technical bases on which they are relying to determine the emission reductions measures that are necessary to make reasonable progress through an RPO, as long as the process has been “approved by all State participants.”

Section 51.308(f)(2)(iii) also requires that the emissions information considered to determine the measures that are necessary to make reasonable progress include information on emissions for the most recent year for which the State has submitted triennial emissions data to EPA (or a more recent year), with a 12-month exemption period for newly submitted data.

2. State Assessment: To develop Georgia's LTS, GA EPD set criteria to identify sources to evaluate for potential controls using the four factors outlined in Section II.B, selected sources based on those criteria, considered the four factors, provided emissions limits and supporting conditions for adoption into the regulatory portion of the SIP, and evaluated the five additional factors at 40 CFR 51.308(f)(2)(iv).

a. Source Selection Criteria: With respect to 40 CFR 51.308(f)(2)(i), Georgia, through VISTAS, used a two-step source selection process: (1) Area of Influence (AoI) analysis, and (2) PSAT ⁵⁰ modeling for sources exceeding an AoI threshold.⁵¹ Georgia considered the four factors for sources that exceeded both the AoI and PSAT thresholds. Both sulfates and nitrates were considered in the source selection process. To identify sources having the most impact on visibility at Class I areas for PSAT modeling, Georgia used an AoI threshold of greater than or equal to two percent for sulfate and nitrate combined at any Class I area for all sources within the State and four percent for sulfate and nitrate combined at any Class I area for all sources outside of the State. Sources which exceeded Georgia's AoI threshold are listed in Table 7-11 of the Haze Plan. Of these sources, five sources located within Georgia exceeded the AoI threshold for any Class I area in the State: Brunswick Cellulose LLC (Brunswick Cellulose); International Paper—Savannah (IP-Savannah); Georgia Power Company—Plant Bowen (Plant Bowen); Temple Inland; and Georgia-Pacific Consumer Products LP (Savannah River Mill).

⁵⁰ PSAT modeling is a type of photochemical modeling which quantifies individual facility visibility impacts to an area. See footnote 41.

⁵¹ The AoI represents the geographical area around a Class I area in which emissions sources located in the AoI have the potential to contribute to visibility impairment visibility at that Class I area. Emissions data from sources in the AoI is then evaluated to determine which of those sources are most likely contributing to visibility impairment visibility at that Class I area. VISTAS used AoI analysis for all point source facilities in the VISTAS modeling domain to determine the relative visibility impairment impacts at each Class I area associated with sulfate and nitrate. The results of the facility-level AoI analyses were then used to rank and prioritize facilities for further evaluation via PSAT.

Georgia, in coordination with the other VISTAS States, set a PSAT threshold of greater than or equal to one percent for sulfate and a separate PSAT threshold of greater than or equal to one percent for nitrate, by facility.⁵² Sources identified based on the State's PSAT threshold are listed in Tables 7-29, 7-30, and 7-31 of the Haze Plan. Of these 17 sources identified, 14 are located in seven other States and three are in Georgia. Georgia selected the three in-state sources of Brunswick Cellulose, IP-Savannah, and Plant Bowen for an FFA.⁵³ The projected 2028 SO2 from these three sources are 294 tons per year (tpy), 3,945 tpy, and 10,453 tpy, respectively, as described in Table 7-32 of the Haze Plan. No sources modeled for PSAT exceeded the selected PSAT threshold for nitrates. Ammonium sulfate continues to be the dominant visibility impairing pollutant at the Georgia Class I areas during the modeling base period of 2009-2013, on nearly all days, and for the 2014-2018 and 2015-2019 periods.⁵⁴

⁵² In the first planning period, VISTAS States had initially set a greater than or equal to one percent PSAT threshold by emission unit when screening sources for reasonable progress evaluation. For the second planning period, VISTAS States changed the threshold from greater than or equal to one percent PSAT, by emission unit, to greater than or equal to one percent PSAT, by facility. Using a facility basis for emission estimates pulled in more facilities compared to an emission unit basis, resulting in more facilities with smaller visibility impacts being examined compared to the first planning period.

⁵³ Brunswick Cellulose and IP-Savannah are pulp and paper mills. Plant Bowen is a coal-fired electric generating plant.

⁵⁴ See Section 2.5.2 (particularly Figures 2-4 through 2-6 for the 2009-2013 period and Figures 2-7 through 2-9 for the 2014-2018 period), and Section 7.10 of the Haze Plan related to ammonium nitrate.

Although ammonium sulfate remains the dominant visibility impairing pollutant, GA EPD noted that NOX contributions to visibility impairment can vary from year to year. According to the Haze Plan, the NOX contributions to visibility impairment at Cohutta have increased from 1.7 percent in 2001 to 5.4 percent in 2019 on the 20 percent most impaired days, and the NOX contributions to visibility impairment at Okefenokee have increased from 4.2 percent in 2000 to 5.9 percent in 2019 on the 20 percent most impaired days.⁵⁵ In spite of these annual variations, in Figure 7-46 of the Haze Plan, GA EPD shows that during the 2015 through 2019 period, ammonium sulfate continues to be the dominant visibility impairing species at Cohutta, Okefenokee, and Wolf Island and surrounding VISTAS Class I areas. Moreover, in Figure 7-47 of the Haze Plan, Georgia demonstrates that reductions in the State's NOX emissions do not necessarily lead to reductions in nitrate at the Class I areas in Georgia. PSAT results indicate that across Georgia's Class I areas, sulfate visibility impacts per ton are universally higher than nitrate visibility impacts per ton. On average, the reduction of one ton of SO2 will have the equivalent benefit of reducing 30.7 tons of NOX at Cohutta, 19.0 tons of NOX at Okefenokee, and 19.2 tons of NOX at Wolf Island. For the reasons discussed, GA EPD determined that SO2 emission reductions have a significantly higher benefit on improving visibility at these Class I areas compared to controlling NOX emissions, as sulfates are still the dominant visibility impairing species at the Cohutta, Okefenokee, and Wolf Island in spite of some increases in nitrates. Because no sources exceeded the State's PSAT threshold for nitrates and because ammonium sulfate continues to be the dominant visibility impairing pollutant at the Georgia Class I areas (as discussed further below), GA EPD focused solely on evaluating potential SO2 controls from Brunswick Cellulose, IP-Savannah, and Plant Bowen to address regional haze in potentially affected Class I areas and noted that it may be appropriate in future period haze plans to evaluate NOX controls depending on what the future data show.

⁵⁵ See Figures 7-44 and 7-45 of the Haze Plan; see also Figure 7-46 of the Haze Plan regarding ammonium sulfate as compared to ammonium nitrative impacts on visibility at all Class I areas in the VISTAS region; see also Appendix H-4b of the Haze Plan at p. 33.

Figures 7-20, 7-21, and 7-22 in the Haze Plan show that projected light extinction in 2028 from total sulfate on the 20 percent most impaired days is significantly larger than light extinction from total nitrate for the Georgia Class I areas. At Cohutta, 2028 projected total sulfate and 2028 total nitrate extinction are approximately 41.3 percent (19 Mm⁻¹) for sulfate and less than 6.5 percent (less than three Mm⁻¹) for nitrate, in comparison to the 2028 total visibility impairment on the 20 percent most impaired days.⁵⁶ At Okefenokee, 2028 projected total sulfate and 2028 total nitrate extinction are greater than 44.6 percent (25 Mm⁻¹) for sulfate and less than 7.1 percent (less than four Mm⁻¹) for nitrate, in comparison to the 2028 total visibility impairment on the 20 percent most impaired days. At Wolf Island, 2028 projected total sulfate and 2028 total nitrate extinction are greater than 44.5 percent (24.5 Mm⁻¹) for sulfate and less than 7.3 percent (less than four Mm⁻¹) for nitrate, in comparison to the 2028 total visibility impairment on the 20 percent most impaired days. In addition, the majority of model-predicted 2028 nitrate light extinction on the 20 percent most impaired days at Cohutta, Okefenokee, and Wolf Island, respectively, is not caused by NOX emissions from EGU and non-EGU point sources.⁵⁷

⁵⁶ Percent impairment was calculated using 2028 total visibility impairment on the 20 percent most impaired days at Cohutta (46 Mm⁻¹), Okefenokee (56 Mm⁻¹), and Wolf Island (55 Mm⁻¹), based on Table 7-2 of the Haze Plan.

⁵⁷ See Figures 7-19, 7-47, 7-48, 7-49, and 7-50 of the Haze Plan contrasting nitrate visibility impairment to point source NOX emissions from EGUs and non-EGUs.

In Section 7.6.4 of the Haze Plan, the State reviewed Georgia facilities that were not selected for PSAT modeling and which had an AoI contribution greater than one percent for one or more Class I areas. This review included Georgia Power—Plant Wansley (Plant Wansley); Mohawk Industries Inc.; Southern States Phosphate & Fertilizer (now Seagate Terminals Savannah); and Savannah Sugar Refinery (now Imperial-Savannah LP). Regarding Plant Wansley, Georgia states that a recent change from coal to natural gas reduced visibility impacts from this facility and adjusting the AoI contribution from this facility to account for this change resulted in an AoI contribution below the State's screening threshold for further PSAT tagging. Additionally, Georgia has notified EPA that Plant Wansley has permanently ceased operations, and therefore, as of December 28, 2022, Georgia revoked all air quality permits previously issued for this facility, including its Part 70 Operating Permit No. 4911-149-0001-V-04-0.⁵⁸ Regarding the other facilities, Georgia indicated that they were all less than 100 kilometers from the nearest mandatory Class I area, and a VISTAS analysis of AoI compared to PSAT results shows that AoI results are always at least 2.75 times higher than PSAT results for facilities in close proximity (< 100 kilometers) to Class I areas. Therefore, based on that information, Georgia screened out these facilities from further analysis. Section I.A. of the TSD provides additional detail regarding the State's source selection process.

⁵⁸ GA EPD's December 28, 2022, letter to Georgia Power revoking Plant Wansley's Part 70 Operating Permit is included in the docket for this proposed rule.

b. Consideration of the Four CAA Factors: Georgia considered each of the four CAA factors for Brunswick Cellulose, IP-Savannah, and Plant Bowen and described how the four factors were taken into consideration in selecting measures for inclusion in the State's LTS. The following subsections summarize the State's evaluation of these facilities. Additional detail is provided in Section I.B. of the TSD.

i. Brunswick Cellulose: The FFA for Brunswick Cellulose focused on the No. 4 Power Boiler, No. 5 Recovery Furnace, and No. 6 Recovery Furnace.⁵⁹ For the No. 4 Power Boiler, the FFA reviewed the following potential controls: substitution of No. 6 Fuel Oil with natural gas, wet scrubber with caustic addition, and trona dry sorbent injection (DSI). Tables 7-38 and 7-40 of the Haze Plan show that of the potential new control measures considered for the No. 4 Power Boiler, Brunswick Cellulose would obtain a cost savings from replacing No. 6 fuel oil with natural gas which would remove 49 tons of SO2 annually and from replacing tire-derived fuel with natural gas which would remove 67 tons of SO2 annually; the wet scrubber would remove 141 tons of SO2 annually at a cost of $10,330/ton removed; and the DSI system would remove 129.1 tons of SO2 annually at a cost of $26,301/ton removed.

⁵⁹ GA EPD notes that the following emissions units were exempted from FFA review because the three-year average (2017-2019) actual SO2 emissions from each unit are two tpy or less and thus any emissions reductions from new control measures is expected to be minimal: No. 5 Lime Kiln (L537), No. 6 Power Boiler (U706), No. 7 Power Boiler (U707), No. 5 Smelt Dissolving Tank (R403), No. 6 Smelt Dissolving Tank (R408), and Backup NCG Incinerator (R480).

For the No. 5 and No. 6 Recovery Furnaces, the FFA reviewed the following potential controls: use of low-sulfur fuels and a wet scrubber system. Tables 7-39 and 7-40 of the Haze Plan show that the most cost-effective control options for the No. 5 and No. 6 Recovery Furnaces are: replacement of No. 6. fuel oil with one percent sulfur fuel oil at the No. 4 Power Boiler, No. 5 Recovery Furnace, and No. 5 Lime Kiln ⁶⁰ which would remove 41 tons of SO2 annually at a cost of $5,028/ton of SO2 removed ⁶¹ and replacement of No. 6. fuel oil with one percent sulfur fuel oil at the No. 4 Power Boiler and No. 5 Recovery Furnace which would also remove 41 tons of SO2 annually at a cost of $5,098/ton of SO2 removed. Additional control options assessed include installation of a wet scrubber system on the No. 5 Recovery Furnace which would remove 119 tons of SO2 annually at a cost of $24,242/ton removed, while installation of a wet scrubber system on the No. 6 Recovery Furnace would remove 13 tons of SO2 annually at a cost of $275,621/ton removed.

⁶⁰ Although the No. 5 Lime Kiln was exempted from FFA review, as this unit shares the single No. 6 fuel oil tank supply with both the No. 4 Power Boiler and the No. 5 Recovery Furnace, any substitution to a lower sulfur fuel oil blend at these units would also include a fuel substitution for the No. 5 Lime Kiln (or would include the construction of a new fuel oil tank to supply the No. 4 Power Boiler and No. 5 Recovery Furnace separately from the No. 5 Lime Kiln). GA EPD has included the cost-effectiveness of both scenarios in Table 7-40 of the Haze Plan.

⁶¹ These 41 tpy of SO2 reductions would be spread across the No. 4 Power Boiler and the No. 5 Recovery Furnace.

As explained in Section 7.7 of the Haze Plan, GA EPD reviewed a spreadsheet assembled by the Arkansas Department of Environmental Quality that compares the cost of compliance for SO2 and NOX for controls adopted in various States during the first regional haze planning period in dollars per ton for various types of industrial emission units and presented the maximum and minimum cost per ton and various percentile values and updated it with VISTAS data. While GA EPD did not identify a specific cost per ton threshold, GA EPD determined that a cost-effectiveness of $5,028/ton of SO2 removed was not reasonable, as the State concluded that this cost was greater than the highest 98th percent cost per ton value from the updated Arkansas spreadsheet (within the top two percentile) from each of the VISTAS States from the first planning period, listed in the Arkansas spreadsheet. ⁶²

⁶² See Section 7.7, Appendix G-4, and Appendix H-4b (Section 5.2.1) of the Haze Plan.

GA EPD also included an analysis of the other three factors in Section 7.8.3 of the Haze Plan. Regarding the time necessary for compliance, if controls, such as the installation of a new fuel oil tank or new burner were required, the facility would need at least four to five years to implement these changes. GA EPD notes that the emission units included are assumed to have a remaining useful life of 30 years or more. Regarding the energy and non-air related impacts, GA EPD included the impacts associated with each add-on control option evaluated in the FFA. Use of an SO2 scrubber requires the use of additional water and generates a wastewater stream that must be treated. Additional electricity is required to power scrubber fans. In addition, GA EPD notes that a DSI generates additional waste.

The results of GA EPD's FFA for Brunswick Cellulose were to eliminate firing of tire-derived fuel in the No. 4 Power Boiler and to limit the firing of No. 6 fuel oil in the No. 4 Power Boiler to times of natural gas curtailment with additional fuel oil firing allowed during adverse bark/wood fuel conditions. GA EPD also limited SO2 emissions from the No. 4 Power Boiler to 15 tpy when firing No. 6 fuel oil during adverse bark/wood fuel conditions.⁶³

⁶³ Permit No. 2631-127-0003-V-07-3, Condition 6.2.52, requires the source to use the emission factors and the records required by Condition 6.2.51 to ensure compliance with the 15 tpy SO2 emission limit specified in Condition 3.2.25 for the No. 4 Power Boiler. On April 15, 2024, GA EPD supplemented its August 11, 2022, Haze Plan by providing clarification on the specific emission factor that the source will use for calculating compliance with Condition 3.2.25. This April 15, 2024, email containing the supplemental clarification is included in the docket for this proposed action.

Regarding the No. 5 and No. 6 Recovery Furnaces, for the reasons stated above, Georgia concluded that the costs associated with each of the measures considered were not reasonable and therefore did not select further controls for the No. 5 and No. 6 Recovery Furnaces. GA EPD also indicated that the facility has consistently utilized good operating practices as existing measures for the No. 5 and No. 6 Recovery Furnaces, and that GA EPD expects emissions from these units to remain in the range of 90.4-213.5 tons/year for the No. 5 Recovery Furnace and in the range of 7.8-22.0 tpy of SO2 for the No. 6 Recovery Furnace. In addition, GA EPD notes that the SO2 emissions rates have been consistent during the 2016 to 2020 period and have ranged from 0.1249 to 0.1523 tons SO2 per 1,000 gallon of No. 6 Fuel Oil burned in the No. 5 Recovery Furnace.⁶⁴ Therefore, GA EPD did not include any existing measures for the No. 5 and No. 6 Recovery Furnaces in its Haze Plan submittal for inclusion in the SIP. See 2021 Clarifications Memo at 9.

⁶⁴ This information was provided in an April 15, 2024, supplemental email, in which GA EPD provided historical emission rates (2016 through 2020) for the No. 6 Recovery Furnace. This information is contained in the docket for this proposed action.

Georgia provided EPA with Permit No. 2631-127-0003-V-07-3, issued on October 25, 2023, to implement the control measures that were selected from the FFA for Brunswick Cellulose for the No. 4 Power Boiler.⁶⁵

⁶⁵ GA EPD provided this permit to EPA on November 1, 2023. A copy of the permit is included in the docket. The November 1, 2023, permit conditions are identical to those included in Section 7.8.3 of the June 24, 2022, Haze Plan narrative that was subject to public comment at the State level.

ii. IP-Savannah: The FFA for IP-Savanah focused on the facility's No. 13 Power Boiler.⁶⁶ The FFA notes that as a result of a boiler project that was completed for compliance with 40 CFR part 63, subpart DDDDD (commonly referred to as the Boiler MACT) that became effective in 2013 with a 2016 compliance date, IP-Savannah ceased firing No. 6 fuel oil in the No. 13 Power Boiler, added load-bearing natural gas burners, and optimized combustion controls and the combustion air system. Prior to completion of this project, the No. 13 Power Boiler was permitted to burn coal, biomass, fuel oil, and non-condensable gases (NCGs). After completion of this project, the boiler was able to burn coal, biomass, natural gas, and NCGs. Although the plant remained permitted to continue burning coal, it has not burned coal since 2017. The FFA also notes that the No. 13 Power Boiler is controlled by an electrostatic precipitator,⁶⁷ with a portion of low-volume, high-concentration pulp mill gasses sent to a White Liquor Scrubber.

⁶⁶ GA EPD did not evaluate IP-Savannah's No. 15 Recovery Furnace, No. 15 Recovery Furnace Smelt Dissolving Tank, and No. 7 Lime Kiln in the FFA because combined, these emission units emitted less than 30 tpy of SO2 annually from 2018-2020. Nearly all SO2 emissions from IP-Savannah are from the No. 13 Power Boiler.

⁶⁷ The electrostatic precipitator that is being used to control emissions from the No. 13 Power Boiler at IP-Savannah is primarily a device to control particulate pollution and is not an SO2 control device.

The FFA reviewed the following potential controls for the No. 13 Power Boiler: addition of a circulating dry scrubber with pulse jet fabric filter; addition of a DSI system; and permanent removal of coal as a permissible fuel. The FFA determined that installation of the dry scrubber would remove 3,674 tons of SO2 per year at a cost of $5,564/ton; installation of the DSI system would remove 2,653 tons of SO2 per year at a cost of $6,245/ton; and removal of coal as a fuel source would result prevent the emission of 2,662 tons of SO2 annually and would result in a cost savings to the plant. GA EPD used the Arkansas Department of Environmental Quality spreadsheet for evaluating the cost-effectiveness for each of the controls evaluated, as explained in Section IV.C.2.b.1 of the proposed rule and Section 7.7 of the Haze Plan. While GA EPD did not identify a specific cost per ton threshold, GA EPD used the spreadsheet as rationale for the determination that cost-effectiveness of $5,564/ton and $6,245/ton of SO2 removed was not reasonable, as the State concluded that these costs were greater than the highest 98th percent cost per ton value from the updated Arkansas spreadsheet (within the top two percentile) from each of the VISTAS States from the first planning period, listed in the Arkansas spreadsheet.⁶⁸

⁶⁸ See Section 7.7, Appendix G-4, and Appendix H-4b (section 5.2.1) of the Haze Plan.

GA EPD also included an analysis of the other three factors in Section 7.8.1 of the Haze Plan of the Haze Plan. Regarding the time necessary for compliance, GA EPD estimates it would take at least three years to implement the installation of any add-on controls. Regarding the remaining useful life of existing sources, GA EPD notes that the No. 13 Power Boiler has a useful life of 20 years or more. Regarding the energy and non-air related impacts, GA EPD included the impacts associated with each add-on control option evaluated in the FFA. The FFA notes that both the dry scrubber and DSI system options would utilize additional energy and water usage and generate additional solid waste and wastewater and could potentially cause a smaller compliance margin against non-air permit limits. In addition, GA EPD notes that both the dry scrubber and DSI option would require an expansion of the existing mill-owned landfill.

As such, GA EPD selected the removal of coal as an allowable fuel for the No. 13 Power Boiler as a necessary measure for reasonable progress. The FFA also concluded that installation of a dry scrubber or DSI carried unreasonable cost and that the other, non-cost factors weighed against installation of add-on controls. The FFA therefore determined that the installation of a dry scrubber or DSI were not necessary to make reasonable progress.

Georgia provided EPA with Permit No. 2631-051-0007-V-04-1, issued on October 20, 2023, to implement control measures that were selected from the FFA for IP-Savannah for incorporation into the SIP.⁶⁹

⁶⁹ GA EPD provided this permit to EPA on November 1, 2023. A copy of the permit is included in the docket. The November 1, 2023, permit conditions are identical to those included in Section 7.8.1 of the June 24, 2022, Haze Plan narrative that was subject to public comment at the State level.

iii. Plant Bowen: The Plant Bowen FFA evaluated technically feasible SO2 controls for all four units (Units 1-4) at this plant. SO2 emissions from Plant Bowen Units 1-4 are currently controlled by wet flue gas desulfurization (WFGD) scrubbers and the use of fuel that does not exceed three percent sulfur by weight. The FFA notes that Plant Bowen Units 1-4 currently combust bituminous coal primarily from the Illinois Basin, which has an average sulfur content of approximately 2.6 percent and an average heat content of 12,002 British thermal units (Btu) per pound. GA EPD states that the SO2 removal efficiency for Units 1-4 ranges from 96 to 97.3 percent based on data from three years prior to submission of the final Haze Plan.

The FFA reviewed the following potential controls for Plant Bowen: the installation of dry flue gas desulfurization (DFGD) scrubbers to replace the existing wet scrubbers; switching coal to Powder River Basin coal, which has an average sulfur content of 0.42 percent and average heat content of 8,800 Btu per pound; and switching to Central Appalachian coal, which has an average sulfur content of 1.1 percent and average heat content of 12,000 Btu per pound.⁷⁰ The FFA concluded that DFGD is an inferior control option that would result in higher emissions compared to the existing WFGD. Therefore, this option was not explored further. Regarding the switch to Powder River Basin coal, the FFA determined that this option would reduce SO2 emissions by 81 percent (7,482 tpy) at a cost of $6,424/ton of SO2 removed. The FFA also determined that switching to Central Appalachian coal would reduce SO2 emissions by 56 percent (5,199 tpy) at a cost of $13,447/ton of SO2 removed.

⁷⁰ See Table A2.1 to Appendix G-1b of the Haze Plan.

GA EPD used the Arkansas Department of Environmental Quality spreadsheet for evaluating the cost-effectiveness for each of the controls evaluated, as explained in Section IV.C.2.b.1 of the proposed rule and Section 7.7 of the Haze Plan. While GA EPD did not identify a specific cost per ton threshold, GA EPD used the spreadsheet as rationale for the determination that cost-effectiveness of $6,424/ton and $13,447/ton of SO2 removed was not reasonable, as the State concluded that this cost was greater than the highest 98th percent cost per ton value from the updated Arkansas spreadsheet (within the top two percentile) from each of the VISTAS States from the first planning period, listed in the Arkansas spreadsheet.⁷¹

⁷¹ See Section 7.7, Appendix G-4, and Appendix H-4b (section 5.2.1) of the Haze Plan.

GA EPD also included an analysis of the other three factors in Appendix G-1b of the Haze Plan. For a switch to either Powder River Basin coal or Central Appalachian coal, Georgia notes that extensive engineering evaluations would be needed. Therefore, GA EPD estimates that the time necessary for compliance could take until December 31, 2028. Regarding the energy and non-air related impacts, the FFA explains that due to limitations in the plant's coal handling facilities, a switch to Powder River Basin coal would result in an electric generation derate of 27 percent or more based on the lower heat content of this type of coal that could not easily be remedied by simply increasing the tonnage of coal burned at the plant.⁷²

⁷² The FFA also accounted for this 27 percent facility derate in the cost of compliance factor.

The FFA concluded that no new measures were reasonable for Plant Bowen, and therefore concluded that existing measures are necessary to make reasonable progress. Specifically, GA EPD concluded that adopting an SO2 emission limit of 0.20 pound per million British thermal units (lb/MMBtu) on a 30-day rolling average into the SIP is necessary to make reasonable progress. This emission limit is the alternative emission limit currently applicable to Plant Bowen under the Mercury and Air Toxics Standards (MATS) rule. Including this emission limit in the SIP would also have the effect of removing the hydrogen chloride (HCl) MATS compliance option for Plant Bowen. Georgia provided EPA with Permit No. 4911-015-0011-V-04-3 dated September 6, 2023, to implement this control measure for Plant Bowen into the SIP.⁷³

⁷³ GA EPD provided this permit to EPA on November 1, 2023. This permit replaces the permit contained in Appendix G-1d. A copy of the permit is included in the docket. The November 1, 2023, permit conditions are identical to those included in Section 7.8.2 of the June 24, 2022, Haze Plan that was subject to public comment at the State level.

c. Documentation of Technical Basis: With respect to emissions information documentation pursuant to 40 CFR 51.308(f)(2)(iii), Section 4 of the Haze Plan explains the State's use of emissions inventories to develop the plan with additional documentation provided in Appendix B. Georgia, through VISTAS, developed a 2011 statewide base year emissions inventory which was used to project emissions out to 2028—the end of the second planning period. GA EPD also evaluated emissions data from 2017, the year of the most recent triennial emissions data available at the time of the development of the Haze Plan, and compared it to 2018, 2019, and 2028 projected emissions, that were used in the modeling.⁷⁴ GA EPD also provided annual, statewide anthropogenic SO2, NOX, and PM2.5 emissions data from 2011 through 2019 for Georgia in Tables 13-10, 13-11, and 13-12, respectively, of the Haze Plan. The 2011-2019 statewide emissions inventories and 2028 emissions projections were relied upon to satisfy 40 CFR 51.308(f)(6)(v).

⁷⁴ A comparison of emissions between 2017, 2018, 2019, and 2028 emissions data is included in the following tables and figures in the Haze Plan: Table 7-32 (SO2) and 7-33 (NOX) for facilities in Georgia; Tables 13-10 (PM2.5), 13-11 (NOX), 13-12 (SO2), 13-13 (SO2 emissions from Georgia EGU for CAMD 2015-2021); Figures 13-7 (Georgia CAMD Emissions and Heat Input for 2014-2019) and 13-8 VISTAS CAMD Emissions and Heat Input for 2014-2019; and Table 13-14 (SO2, NOX for all RPOs).

With respect to modeling information documentation pursuant to 40 CFR 51.308(f)(2)(iii), Sections 5 and 6 of the Haze Plan describe the modeling methods used to develop the plan with additional documentation provided in Appendix E and results of the RPG modeling in Section 8 of the plan. Appendix D contains AoI analysis documentation, and Appendix E contains PSAT analysis documentation.

With respect to cost and engineering information documentation pursuant to 40 CFR 51.308(f)(2)(iii), Section 7.8 of the Haze Plan details the State's analysis of proposed FFAs for Brunswick Cellulose, IP-Savannah, and Plant Bowen located in Appendix G which evaluated the four factors, including the cost of compliance factor, and provided detailed cost calculations for potential new control measures assessed as part of the engineering analyses.

With respect to monitoring information documentation pursuant to 40 CFR 51.308(f)(2)(iii), the State assessed baseline (2000-2004), current (2014-2018), and natural visibility conditions for Georgia's Class I areas in Section 2 of the Georgia's Haze Plan with supporting information located in Appendix C.

Section I of the TSD provides a more detailed summary of the State's assessment of the documentation of the technical basis for the Georgia's Haze Plan under 40 CFR 51.308(f)(2)(iii) and 40 CFR 51.308(f)(6)(v).

d. Assessment of Five Additional Factors in 40 CFR 51.308(f)(2)(iv): With respect to 40 CFR 51.308(f)(2)(iv), Georgia considered each of the five additional factors in developing the State's LTS and evaluated their relevancy for the second period. See Haze Plan, Section 7.9. With respect to 40 CFR 51.308(f)(2)(iv)(A), Georgia referenced the State's emissions inventory development for the base year of 2011 as projected out to 2028 for the requirement to assess emission reductions due to ongoing air pollution control programs, including measures to address RAVI. With respect to 40 CFR 51.308(f)(2)(iv)(B), Georgia summarized the State's existing regulations that mitigate the impacts of construction activities by requiring control of erosion, siltation, and pollution from construction activities and requiring subject facilities to control PM from fugitive dust emission sources generated within plant boundaries. With respect to 40 CFR 51.308(f)(2)(iv)(C), Georgia addressed source retirement and replacement schedules by summarizing existing and planned source retirements in the Haze Plan in Section 13.3.1 and Section 13.3.2. With respect to 40 CFR 51.308(f)(2)(iv)(D), GA EPD referenced its 2008 Memorandum of Understanding with the Georgia Forestry Commission and the associated Smoke Management Plan to mitigate PM2.5 emissions and regional haze impacts associated with prescribed burning.⁷⁵ With respect to 40 CFR 51.308(f)(2)(iv)(E), the 2028 RPGs for the Georgia Class I areas reflect the net effect on visibility due to projected changes in point, area, and mobile source emissions over the second period. Section I.C. of the TSD to this rulemaking provides a more detailed summary of the State's assessment of the five additional factors in 40 CFR 51.308(f)(2)(iv).

⁷⁵ Georgia's current Smoke Management Plan is available at: https://epd.georgia.gov/document/document/view-georgias-smoke-management-plan/download.

e. Interstate Consultation: Georgia consulted with other States, as described below, and RPOs that identified Georgia sources as impacting those States' (or States within the RPOs') Class I areas, and GA EPD consulted with the seven States with one or more sources exceeding Georgia's PSAT threshold at one or more of Georgia's Class I areas.

i. State/RPOs Requesting Consultation with Georgia: Section 10.1.2 and Appendix F-1 of the Haze Plan documents other States' consultations with Georgia during the development of those States' LTSs regarding impacts from Georgia's emissions sources on Class I areas outside of the State. Georgia received requests for a FFA from Florida, North Carolina, Tennessee, and South Carolina regarding Plant Bowen. Georgia also received a request for a reasonable progress analysis from South Carolina regarding IP-Savannah. As discussed in Section 7.6.4 of the Haze Plan, Georgia selected Plant Bowen and IP-Savannah for a reasonable progress analysis.

ii. Georgia's Requests for Consultation with Other States: Consultation with other States with sources contributing to regional haze at Georgia's Class I areas is discussed in Section 10 and Appendix F of the Haze Plan. Table 10-1 provides a summary of the VISTAS and non-VISTAS States to which a letter was sent and identifies the total number of facilities impacting each Class I area in Georgia, as determined by the State. Table 10-2 identifies each out-of-state facility with a percent impairment impact greater than one percent sulfate or nitrate to each Class I area in Georgia. Appendix F-1 provides the consultation letters from GA EPD to each VISTAS State and the responses to these letters. Appendix F-2 provides the consultation letters from VISTAS to each non-VISTAS State and the responses to these letters. Georgia requested an FFA of 13 sources in seven other States because these sources exceeded the State's sulfate PSAT threshold at one or more of Georgia's Class I areas.⁷⁶ GA EPD documented the responses received for each of the sources in Section 10.1.1 of the Haze Plan. Georgia consulted with other VISTAS States (Florida, Kentucky, South Carolina, Tennessee) and each non-VISTAS State (Indiana, Ohio, Pennsylvania) regarding impacts from sources in those States to one or more Class I areas in Georgia and included responses from each VISTAS and non-VISTAS State in Appendix F-1 and Appendix F-2 of the Haze Plan, respectively. GA EPD has noted no disagreement with the decisions made by other State agencies concerning the emission sources in other States, as listed in Section 10.1.1 of the Haze Plan, except for the decision made by the Indiana Department of Environmental Management to not require FFAs from its electric generating units (EGUs), including Gibson Station and AEP Rockport Generating Station.

⁷⁶ Georgia requested FFAs of non-VISTAS sources through VISTAS.

See Section I.E. of the TSD associated with this rulemaking for additional description of Georgia's interstate consultation for regional haze for the second period regarding: (a) visibility impacts from Georgia sources on other States' Class I area(s) and (b) visibility impacts from other States' sources on one or more of Georgia's Class I areas.

3. EPA Evaluation: EPA has reviewed Georgia's four-factor analyses, determinations of controls necessary for reasonable progress, and submitted permit conditions. Based on this review, EPA proposes to determine that Georgia's long-term strategy meets the requirements of 40 CFR 51.308(f)(2)(i) through (iv). However, EPA is soliciting comment on the adequacy of Georgia's analyses, including the four-factor analyses, determinations of controls necessary for reasonable progress and the adequacy of the submitted permit conditions, including associated monitoring, recordkeeping, and reporting, and whether the State has met the requirements of 40 CFR 51.308(f)(2)(i) through (iv).

a. Source Selection Criteria: EPA proposes to find that Georgia has satisfied the requirements of 40 CFR 51.308(f)(2)(i) with respect to including a description of the criteria that the State used to determine which sources the State evaluated for emissions controls. Georgia provided in the Haze Plan supporting information such as Appendix C, which includes monitoring and meteorological data used to support selection of sources; Appendix D, which provides documentation supporting the AoI analyses (first step of the State's source selection process); and Appendix E, which details the visibility and source apportionment data and results from the PSAT modeling (second step of the State's source selection process).

EPA also proposes to find that Georgia's source selection methodology was reasonable and resulted in a reasonable set of sources contributing to visibility impairment at Class I areas affected by Georgia's sources. AoI and PSAT are acceptable and well-established methods for selecting sources for a control analysis.⁷⁷ Additionally, Georgia's application of a two percent AoI threshold for in-state sources, a four percent AoI threshold for out-of-state sources, and a one percent PSAT threshold based on 2028 projected emissions enabled the selection of the three in-state sources that are projected to have the highest impact on visibility at the end of the second planning period and also identified 14 out-of-state sources that have the largest impacts on visibility at Class I areas in Georgia. Georgia completed control evaluations for the three in-state sources and requested control evaluations for the 14 out-of-state sources.

⁷⁷ The State used the AoI process because it identifies the largest sources with potential visibility impacts to Class I areas and then used sophisticated photochemical source apportionment modeling to identify specific sources for control evaluations. See also 2019 Guidance, pp. 12-13.

Apart from AoI and PSAT being well-established methods to select sources, Georgia's source selection methodology is also reasonable given the specific circumstances present in Georgia. Georgia (through VISTAS' analysis) projects that visibility conditions in Georgia's Class I areas in 2028 are estimated to improve since the 2000-2004 baseline period by 14.22 deciviews (Cohutta) and 8.44 deciviews (Okefenokee and Wolf Island). Specific to the second planning period, visibility conditions in Georgia's Class I areas in 2028 are estimated to improve since the 2014-2018 period by 2.5 deciviews (Cohutta) and 0.49 deciviews (Okefenokee and Wolf Island) on the 20 percent most impaired days. These visibility improvements represent approximately 33.0 percent (Cohutta) and 6.2 percent (Okefenokee and Wolf Island) of the additional progress needed to reach natural conditions at each Class I area.⁷⁸ Additionally, using the most recent 2018-2022 IMPROVE data ⁷⁹ for Georgia's Class I areas on the 20 percent most impaired days (15.69 deciviews (Cohutta) and 16.36 deciviews (Okefenokee and Wolf Island)), in the first four years of the second planning period (2019-2022), Georgia has already achieved 22.4 percent (Cohutta) and 13.0 percent (Okefenokee and Wolf Island)) of the remaining progress needed to reach natural conditions. Georgia is also not contributing to visibility impairment at any Class I areas above the URP, and the State appropriately focused on controlling point source SO2 emissions based on data showing ammonium sulfate is the dominant visibility impairing pollutant at the Georgia Class I areas.

⁷⁸ The additional visibility improvement needed to reach natural conditions at the start of the second planning period based upon 2014-2018 IMPROVE data for the 20 percent most impaired days is calculated as follows: ((2014-2018 visibility conditions)−(2028 RPG))/((2014-2018 visibility conditions)−(natural conditions)) × 100 = percent progress needed to reach natural conditions from the start of the second planning period. For example, using data for Cohutta, the calculation is: ((17.37 deciviews−14.90 deciviews)/(17.37 deciviews−9.88 deciviews)) × 100 = 33.0 percent.

⁷⁹ The 2018-2022 IMPROVE data for the 20 percent most impaired days was obtained from https://vista.cira.colostate.edu/Improve/rhr-summary-data/ under the header “Means for Impairment Metric:” The IMPROVE data includes visibility monitoring data for each Class I area. This data was filtered for each Georgia Class I area, listed as “COHU1” and “OKEF1” for Cohutta and Okefenokee, respectively, (in column “A”, titled “site”). Then data was filtered for the years 2018 through 2022 (using column “B” titled “year”). These data points were then filtered for the 20 percent most impaired days, indicated by “90” (in column “C” titled “impairment_Group”). The resulting five data points for each Georgia Class I area within the “haze_dv” column “AK”, corresponding to each of the five years, were averaged to determine the 20 percent most impaired days for the 2018-2022 five-year period.

b. Consideration of the Four CAA Factors: EPA proposes to find that Georgia has satisfied the FFA requirements through its evaluation and actions documented in the Georgia Haze Plan for the second planning period. Additionally, as laid out in further detail in the following paragraphs of this section, EPA proposes to find that GA EPD's reasonable progress determinations and conclusions for these sources are reasonable and the Georgia submission satisfies the requirement of 40 CFR 51.308(f)(2)(i).

i. Brunswick Cellulose: Regarding Brunswick Cellulose, GA EPD's conclusions and analytical methods stated in its FFA are reasonable.

Regarding the No. 4 Power Boiler, EPA proposes to find that GA EPD's determination of measures that are necessary for reasonable progress for the second planning period are reasonable. These measures include: a) Brunswick Cellulose's No. 4 Power Boiler must eliminate the firing of tire-derived fuel and limit the firing of No. 6 fuel oil to times of natural gas curtailment with additional fuel oil firing allowances during adverse bark/wood fuel conditions and b) the No. 4 Power Boiler will be limited to 15 tpy of SO2 emissions when firing No. 6 fuel oil during periods of adverse fuel conditions. As explained in Section 7.8.3 of the Haze Plan, Georgia EPD found that eliminating the firing of tire-derived fuel in the No. 4 Power Boiler would result in cost-savings for the facility, achieving an annual SO2 reduction of 67 tpy without requiring significant capital investment to modify equipment at the site. Furthermore, the FFA also found that this option resulted in greater annual SO2 emission reductions than some other more expensive fuel-switching options. See Tables 3 through 5 of the accompanying TSD for further detail.

Regarding the No. 5 and No. 6 Recovery Furnaces, EPA finds that Georgia has adequately demonstrated that based on high control costs, none of the add-on SO2 controls evaluated for the selected units were reasonable and that existing SO2 measures at the No. 5 and No. 6 Recovery Furnaces are not necessary for reasonable progress. Therefore, no permit conditions reflecting existing SO2 measures are required for incorporation into the SIP for these emission units.⁸⁰ Specifically, emission rates from 2016 to 2020 at the No. 5 and No. 6 Recovery Furnaces are consistent over this five-year period. Of these two recovery furnaces, the No. 5 recovery furnace is the higher-emitting unit.⁸¹ Regarding the No. 5 Recovery Furnace, on April 16, 2024, GA EPD provided a supplement to the Haze Plan containing additional emission rate information.⁸² In this supplement, GA EPD also notes that this unit is already subject to PSD limits for sulfur, filterable PM, and the gallons of fuel oil burned. As such, GA EPD notes that while total SO2 emissions for this unit have fluctuated during the 2016 to 2020 period, the emission rate for the unit is within a consistent range limited by the Permit. Specifically, GA EPD notes that the SO2 emissions rates have been consistent during the 2016 to 2020 period and have ranged from 0.1249 to 0.1523 tons SO2 per 1,000 gallon of No. 6 Fuel Oil burned in the No. 5 Recovery Furnace.

⁸⁰ For additional discussion, see Section 4.1 of the 2021 Memo.

⁸¹ Emissions from the No. 6 Recovery Furnace have not exceeded 22 tpy from 2016 through 2020 according to Section 7.8.3 of the Haze Plan. The SO2 emissions from the No. 6 Recovery Furnace have also consistently trended downward, and GA EPD notes that future SO2 emissions will remain between 7.8 to 22 tpy.

⁸² The April 15, 2024, supplemental information is included in the docket for this proposed action.

The measures resulting from the FFA for Brunswick Cellulose are being implemented by GA EPD through the issuance of Permit No. 2631-127-0003-V-07-3 dated October 25, 2023, which is included in the docket for this proposed rule. EPA is proposing to incorporate by reference this permit and its associated conditions into Georgia's SIP because these measures are necessary to make reasonable progress toward visibility improvement at Class I areas impacted by this facility. These permit conditions are also described under “Summary and Proposed Permit Conditions” in Section 7.8.3 of the Haze Plan.

ii. IP-Savannah: Regarding IP-Savannah, EPA finds that GA EPD adequately demonstrated that the removal of coal as a permitted fuel for combustion in the No. 13 Power Boiler is a measure necessary for reasonable progress. The costs necessary for implementation result in an overall cost saving for the facility and achieve an annual SO2 emissions reductions of 2,662 tpy. As is detailed in Section 7.8.1. of the Haze Plan, the evaluated add-on SO2 controls, DSI and a dry scrubber, resulted in a higher cost of control and presented challenges in solid waste disposal. Furthermore, the FFA found that the removal of coal as a permitted fuel resulted in greater annual SO2 emission reductions than the more expensive add-on option of DSI. Overall, GA EPD's conclusions and analytical methods stated in its FFA are reasonable. This includes GA EPD's cost calculations, which followed the EPA Air Pollution Control Cost Manual recommendations where relevant to address the cost of compliance factor and consideration of the other non-cost factors. The above-described measures resulting from the FFA for IP-Savannah are being implemented by GA EPD through the issuance of conditions in Permit No. 2631-051-0007-V-04-1 issued October 20, 2023.⁸³ EPA is proposing to incorporate by reference this permit and its associated conditions into Georgia's SIP because these measures are necessary to make reasonable progress toward visibility improvement at Class I areas impacted by this facility. These permit conditions are also described under “Summary and Proposed Permit Conditions” in Section 7.8.1 of the Haze Plan.

⁸³ Permit No. 2631-051-0007-V-04-1, issued on October 20, 2023, contains the permit conditions to be included in the Regional Haze SIP for the second planning period that are related to the removal of coal as a fuel in No. 13 Power Boiler, except for Conditions 3.3.7 and 6.2.6(b). Note that Conditions 3.3.7 and 6.2.6(b) are already federally enforceable conditions developed for Georgia's Regional Haze SIP approved on July 30, 2012, as part of the first planning period and are included in the permit only for completeness. See 77 FR 38501. EPA is not proposing in this notice to adopt Conditions 3.3.7 and 6.2.6(b) into the SIP for this second planning period.

iii. Plant Bowen: Regarding Plant Bowen, GA EPD's conclusions and analytical methods stated in its FFA are reasonable. The lowest evaluated cost control measure is $6,424/ton of SO2 removed for switching to Powder River Basin (PRB) coal. See Table 7-36 of the Haze Plan. GA EPD notes that a capacity derate of around 27 percent or greater would be expected using existing equipment to process Powder River Basin (PRB) coal at the same rate as current Illinois Basin coal operations, based on the heat contents of PRB coal at 8,800 Btu/lb and 2019 Illinois Basin coal at 12,002 Btu/lb. This derate is the main cost that is captured within the $6,424/ton of SO2 removed figure for switching to PRB coal at Plant Bowen. EPA thus proposes to agree with GA EPD's conclusions and assessments as stated in the FFA for this facility. GA EPD's cost calculations, which followed the EPA Air Pollution Control Cost Manual recommendations where relevant to address the cost of compliance factor, are also reasonable.

Thus, EPA finds that GA EPD's conclusions as summarized below are reasonable: a) there are no new SO2 control measures at Plant Bowen for Units 1-4 that are necessary for reasonable progress for the second period; and b) removal of the MATS HCl alternative limit from the title V permit, while retaining the 0.20 lb/MMBtu SO2 MATS limit for Plant Bowen Units 1-4, is an existing measure that is necessary to make reasonable progress.

This existing measure is being implemented by GA EPD through the conditions in Permit No. 4911-015-0011-V-04-3 dated September 6, 2023, which is included in the docket for this proposed rule. EPA is proposing to incorporate by reference this permit and its associated conditions into Georgia's SIP because these measures are necessary to make reasonable progress toward visibility improvement at Class I areas impacted by this facility. These permit conditions are also described under “Summary and Proposed Permit Conditions” in Section 7.8.2 of the Haze Plan.

c. Assessment of Five Additional Factors in 40 CFR 51.308(f)(2)(iv): EPA proposes to find that Georgia has satisfied the requirements of 40 CFR 51.308(f)(2)(iv) because GA EPD considered each of the five additional factors, discussed the measures the State has in place to address each factor (or discussed why such measures are not needed), and, where relevant, explained how each factor informed GA EPD's and VISTAS' technical analyses for the second planning period.

With respect to 40 CFR 51.308(f)(2)(iv)(A), EPA proposes to find that EPD adequately addressed the requirement to assess emission reductions due to ongoing air pollution control programs, including measures to address RAVI, through the State's emissions inventory work for the base year of 2011 as projected out to 2028.

With respect to 40 CFR 51.308(f)(2)(iv)(B), EPA proposes to find that Georgia adequately addressed this requirement to evaluate measures to mitigate the impacts of construction activities by describing various State regulations that address control of erosion, siltation, and pollution from construction activities and that require subject facilities to control PM from fugitive dust emission sources generated within plant boundaries.

With respect to 40 CFR 51.308(f)(2)(iv)(C), EPA proposes to find that Georgia adequately addressed source retirement and replacement schedules by summarizing existing and planned source retirements throughout the Haze Plan, including in Section 7.2.2 (retirements accounted for in the 2028 inventory/RPGs).

With respect to 40 CFR 51.308(f)(2)(iv)(D), EPA proposes to find that Georgia adequately addressed the requirement to consider the State's basic smoke management practices for prescribed fire used for agricultural and wildland vegetation management purposes and smoke management programs for the following reasons. The State describes its smoke management plan, which is implemented through a memorandum of understanding between EPD, the Georgia Forestry Commission, and the Georgia Department of Natural Resources Wildlife Resources Division.⁸⁴

⁸⁴ GA EPD notes that elemental carbon is the primary visibility impairing pollutant related to wildfires, prescribed wildland fires, and agricultural burning. Elemental carbon is a relatively minor contributor to visibility impairment on the 20 percent most impaired days from the base period (2000-2004) through 2018 at the Class I areas in VISTAS and Class I areas neighboring VISTAS based on IMPROVE monitoring data as discussed in Section 2.4 of the Haze Plan.

With respect to 40 CFR 51.308(f)(2)(iv)(E), EPA proposes to find that Georgia assessed the anticipated net effect on visibility due to projected changes in point, area, and mobile source emissions over the second period in development of the 2028 RPGs for the Georgia Class I areas. EPD used the 2011 base year emissions inventory to project emissions from various source sectors to 2028, the end of the second planning period. EPD, through VISTAS, completed CAMx modeling to estimate visibility impairment in 2028 based on projected 2028 emissions from the 2011 base year inventory and using IMPROVE monitoring data for 2009-2013.⁸⁵ For Georgia, estimated visibility improvements by 2028 in each Class I area are based on: estimated emissions reductions associated with existing Federal and State measures implemented or expected to be implemented during the second planning period; emissions reductions associated with facility closures that occurred after the 2016 point source emissions base year (i.e., January 1, 2017 through November 18, 2018); and estimates of emissions changes associated with economic growth and other factors.

⁸⁵ In preparing the 2028 emissions for point sources, Georgia started with a 2016 base year inventory which includes emission reductions associated with Federal and State control programs and consent decrees included in the LTS for the first planning period.

e. Interstate Consultation: With respect to interstate consultation pursuant to 40 CFR 51.308(f)(2)(ii), EPA proposes to find that Georgia has met the requirements under 40 CFR 51.308(f)(2)(ii) to consult with those States with Class I areas where Georgia emissions may reasonably be anticipated to cause or contribute to visibility impairment and to consult with those States whose sources may reasonably be anticipated to cause or contribute to visibility impairment at Georgia's Class I areas. With respect to other States' requests for Georgia to complete four factor analyses for IP-Savannah and Plant Bowen, Georgia did so. Georgia also satisfactorily documented its disagreement with Indiana regarding Georgia's request for Indiana to complete FFAs for Gibson Station and AEP Rockport Generating Station. With respect to consultation with other States with visibility impacts to Georgia's, GA EPD adequately documented the responses from consulted States in Appendix F, provided a summary of its consultation in Section 10.1.1, and identified whether the State agrees with the conclusions.

D. Reasonable Progress Goals

1. RHR Requirement: Section 51.308(f)(3) contains the requirements pertaining to RPGs for each Class I area. Section 51.308(f)(3)(i) requires a State in which a Class I area is located to establish RPGs—one each for the clearest days and the most impaired days—reflecting the visibility conditions that will be achieved at the end of the planning period as a result of the emission limitations, compliance schedules, and other measures required under paragraph (f)(2) to be in States' LTSs, as well as the implementation of other CAA requirements. The LTSs, as reflected by the RPGs, must provide for an improvement in visibility on the most impaired days relative to the baseline period and ensure no degradation on the clearest days relative to the baseline period. Section 51.308(f)(3)(ii) applies in circumstances in which a Class I area's RPG for the most impaired days represents a slower rate of visibility improvement than the uniform rate of progress calculated under 40 CFR 51.308(f)(1)(vi). Under 40 CFR 51.308(f)(3)(ii)(A), if the State in which a mandatory Class I area is located establishes an RPG for the most impaired days that provides for a slower rate of visibility improvement than the URP, the State must demonstrate that there are no additional emission reduction measures for anthropogenic sources or groups of sources in the State that would be reasonable to include in its LTS. Section 51.308(f)(3)(ii)(B) requires that if a State contains sources that are reasonably anticipated to contribute to visibility impairment in a Class I area in another State, and the RPG for the most impaired days in that Class I area is above the URP, the upwind State must provide the same demonstration.

2. State Assessment: Georgia established 2028 RPGs for each of its Class I areas in deciviews for the 20 percent clearest days and the 20 percent most impaired in Tables 8-1 and 8-2, respectively, of the Haze Plan, which are all projected to remain below the URP for each Class I area based on VISTAS' modeling. Table 3 summarizes the 2028 RPGs and 2028 URPs for Georgia's Class I areas.

Table 3—Georgia's Class I Area RPGs and URPs for 2028 in Deciviews
[dv]
Class I area | 2028 RPG 20% clearest (dv) | 2028 RPG 20% most impaired (dv) | 2028 Uniform rate of progress (URP) (dv)
Cohutta | 9.15 | 14.90 | 21.42
Okefenokee | 11.58 | 16.90 | 18.98
Wolf Island | 11.58 | 16.90 | 18.98

Figures 3-1 and 3-2 of the Haze Plan show the URP for the 20 percent most impaired days for Cohutta and Okefenokee (also Wolf Island), respectively.

3. EPA Evaluation: EPA proposes to determine that Georgia has satisfied the applicable requirements of 40 CFR 51.308(f)(3) relating to RPGs. Specifically, the State established 2028 RPGs expressed in deciviews that reflect the visibility conditions that are projected to be achieved by the end of the second planning period as a result of implementation of the LTS and other CAA requirements. Georgia's RPGs illustrate improvement in visibility for the 20 percent most impaired days since the baseline period (2000-2004) and demonstrate that there is no degradation in visibility for the 20 percent clearest days since the baseline period. Any additional unanticipated emissions reductions provide further assurances that the State's Class I areas will achieve their 2028 RPGs.

E. Monitoring Strategy and Other State Implementation Plan Requirements

1. RHR Requirement: Section 51.308(f)(6) specifies that each comprehensive revision of a State's regional haze SIP must contain or provide for certain elements, including monitoring strategies, emissions inventories, and any reporting, recordkeeping, and other measures needed to assess and report on visibility. A main requirement of this subsection is for States with Class I areas to submit monitoring strategies for measuring, characterizing, and reporting on visibility impairment. Compliance with this requirement may be met through participation in the IMPROVE network.

Section 51.308(f)(6)(i) requires SIPs to provide for the establishment of any additional monitoring sites or equipment needed to assess whether RPGs to address regional haze for all mandatory Class I areas within the State are being achieved. Section 51.308(f)(6)(ii) requires SIPs to provide for procedures by which monitoring data and other information are used in determining the contribution of emissions from within the State to regional haze visibility impairment at mandatory Class I areas both within and outside the State. Section 51.308(f)(6)(iii) applies only to States that do not have a mandatory Class I areas. Section 51.308(f)(6)(iv) requires the SIP to provide for the reporting of all visibility monitoring data to the Administrator at least annually for each Class I area in the State. Section 51.308(f)(6)(v) requires SIPs to provide for a statewide inventory of emissions of pollutants that are reasonably anticipated to cause or contribute to visibility impairment, including emissions for the most recent year for which data are available and estimates of future projected emissions. It also requires a commitment to update the inventory periodically. Section 51.308(f)(6)(v) also requires States to include estimates of future projected emissions and include a commitment to update the inventory periodically. Under 40 CFR 51.308(f)(4), if EPA or the FLM of an affected Class I area has advised a State that additional monitoring is needed to assess RAVI, the State must include in its SIP revision for the second planning period an appropriate strategy for evaluating such impairment.

2. State Assessment: With respect to 40 CFR 51.308(f)(6)(i), Georgia states the existing IMPROVE monitors for the State's Class I areas are sufficient for the purposes of this SIP revision. With respect to 40 CFR 51.308(f)(6)(ii), Georgia will use data from these IMPROVE monitors for future haze plans and progress reports. 40 CFR 51.308(f)(6)(iii) does not apply to Georgia. With respect to 40 CFR 51.308(f)(6)(iv), NPS manages and oversees the IMPROVE monitoring network and reviews, verifies, and validates IMPROVE data before its submission to EPA's Air Quality System (AQS). With respect to 40 CFR 51.308(f)(6)(v), GA EPD provided a statewide baseline emissions inventory of pollutants for the year 2011 in Table 4-1; provided 2014 and 2017 emissions data for PM2.5, SO2, and NOX, in Tables 13-10, 13-11, and 13-12, respectively; provided EPA and VISTAS 2028 future emissions projections for SO2 and NOX in Table 4-2; and for specific point sources, 2028 VISTAS emission projections for SO2 and NOX in Tables 7-26 through 7-28; and committed to update the inventory periodically. With respect to 40 CFR 51.308(f)(6)(vi), Georgia affirms there are no elements, including reporting, recordkeeping, or other measures, necessary to address and report on visibility for Georgia's Class I areas or Class I areas outside the State that are affected by sources in Georgia. With respect to 40 CFR 51.308(f)(4), the State did not include a strategy for evaluating RAVI for any Class I areas because no Federal agency requested additional monitoring to assess RAVI. Section II of the TSD to this rulemaking provides a more detailed summary of the State's assessment of Georgia's monitoring strategy for regional haze and other plan requirements pursuant to 40 CFR 51.308(f)(6).

3. EPA Evaluation: EPA proposes to determine that Georgia has satisfied the applicable requirements of 40 CFR 51.308(f)(4) and 40 CFR 51.308(f)(6) related to RAVI, visibility monitoring, and emissions inventories. With respect to 40 CFR 51.308(f)(4), EPA proposes to find that this requirement does not apply to Georgia at this time because neither EPA nor the FLMs requested additional monitoring to assess RAVI.

EPA proposes to determine that Georgia has satisfied 40 CFR 51.308(f)(6), which is generally met by the State's continued participation in the IMPROVE monitoring network and the VISTAS RPO, for the following reasons. With respect to 40 CFR 51.308(f)(6)(i), Georgia stated that the existing IMPROVE monitors relied upon for the State's three Class I areas are adequate, and thus, additional monitoring sites or equipment are not needed to assess whether RPGs for all Class I areas within the State are being achieved. With respect to 40 CFR 51.308(f)(6)(ii), Georgia has procedures by which monitoring data and other information are used to determine the contribution of emissions from within the State to regional haze at Class I areas both within and outside the State through Georgia's continued participation in VISTAS' regional haze work. With respect to 40 CFR 51.308(f)(6)(iii), this provision is applicable for States with no Class I areas and does not apply to Georgia. Regarding the reporting of visibility monitoring data to EPA at least annually for each Class I area in the State pursuant to 40 CFR 51.308(f)(6)(iv), EPA proposes to find that Georgia's participation in the IMPROVE Steering Committee and the IMPROVE monitoring network addresses this requirement. With respect to 40 CFR 51.308(f)(6)(v), EPA proposes to find that Georgia's continued participation in VISTAS' efforts for projecting future emissions and continued compliance with the requirements of the AERR to periodically update emissions inventories satisfies the requirement to provide for an emissions inventory for the most recent year for which data are available. EPA proposes to find that Georgia adequately documented that no further elements are necessary at this time for the State to assess and report on visibility pursuant to 40 CFR 51.308(f)(6)(vi).

F. Requirements for Periodic Reports Describing Progress Toward the Reasonable Progress Goals

1. RHR Requirement: Section 51.308(f)(5) requires that periodic comprehensive revisions of States' regional haze plans also address the progress report requirements of 40 CFR 51.308(g)(1) through (5). The purpose of these requirements is to evaluate progress toward the applicable RPGs for each Class I area within the State and each Class I area outside the State that may be affected by emissions from within that State. Sections 51.308(g)(1) and (2) apply to all States and require a description of the status of implementation of all measures included in a State's first planning period regional haze plan and a summary of the emission reductions achieved through implementation of those measures. Section 51.308(g)(3) applies only to States with Class I areas within their borders and requires such States to assess current visibility conditions, changes in visibility relative to baseline (2000-2004) visibility conditions, and changes in visibility conditions relative to the period addressed in the first planning period progress report. Section 51.308(g)(4) applies to all States and requires an analysis tracking changes in emissions of pollutants contributing to visibility impairment from all sources and sectors since the period addressed by the first planning period progress report. This provision further specifies the year or years through which the analysis must extend depending on the type of source and the platform through which its emission information is reported. Finally, 40 CFR 51.308(g)(5), which also applies to all States, requires an assessment of any significant changes in anthropogenic emissions within or outside the State have occurred since the period addressed by the first planning period progress report, including whether such changes were anticipated and whether they have limited or impeded expected progress toward reducing emissions and improving visibility.

2. State Assessment: With respect to the progress report elements pursuant to 40 CFR 51.308(f)(5), GA EPD addressed these elements in Section 13 of the Haze Plan for the period 2013 to 2018, the end of the first period.⁸⁶

⁸⁶ Georgia's first period progress report covered the period from 2008-2013. In Section 13 of the Haze Plan, Georgia included EGU emissions data through 2021.

Regarding 40 CFR 51.308(g)(1) and 40 CFR 51.308(g)(2), GA EPD describes the status of the implementation of the measures of the LTS from the first planning period and provides a summary of the emission reductions achieved by implementing those measures from 2014-2019 in Section 13.3.1. Emissions reductions data is quantified where such data is available. The status of the SO2 control measures and associated emissions reductions for Georgia's BART and reasonable progress sources from the first planning period is summarized in Table 13-4 of the Haze Plan which shows that these sources reduced emissions by approximately 8,223 tpy of SO2. Section 13.3.2 describes the status and SO2 emissions reductions from measures not included in Georgia's haze plan for the first period.

With respect to 40 CFR 51.308(g)(3), in Tables 13-5 through 13-9 of the Haze Plan, GA EPD calculated for the three Class I areas: current visibility conditions (2014-2018), changes in visibility relative to baseline (2000-2004) visibility conditions, and changes in visibility conditions compared to the last five years. The data shows that all Class I areas saw an improvement in visibility on the 20 percent worst days and on the 20 percent clearest days.⁸⁷

⁸⁷ For the first period, visibility conditions were determined for the average of the 20 percent most impaired visibility days (referred to as the “worst” days) and the 20 percent least impaired visibility days (referred to as the “best” days). These terms were updated to “clearest” and “most impaired,” respectively, as part of two recent actions by EPA. See 82 FR 3078 (January 10, 2017) and “2018 Visibility Tracking Guidance.”

Regarding 40 CFR 51.308(g)(4), in Section 13.5, GA EPD provided emissions trends from 2011 through 2019 for SO2, NOX, PM2.5, PM10, and VOCs which reflect the emissions reductions from the measures in the first period LTS. In summary, reductions in SO2 emissions have been significant and greater than VISTAS projected. For example, statewide SO2 emissions from all sources (point, area, on-road, non-road, and fires) decreased from 102,155 tpy in 2014 to 38,188 tpy in 2017. Similarly, SO2 emissions from EGU sources in Georgia decreased from 64,506 tpy in 2014 to 8,385 tpy in 2021. In spite of significant reductions in SO2, Section 7.4 of the Haze Plan identifies sulfates as continuing to play a significant role in visibility impairment, especially for the most anthropogenically impaired days.⁸⁸ As SO2 emissions continue to drop, nitrates may begin to have a larger relative impact on regional haze in future planning periods.

⁸⁸ Figures 13-1 and 13-2 of the Haze Plan provides the breakdown of visibility impairing pollutants for the 20 percent worst visibility days and clearest visibility days in each of Georgia's Class I areas over 2011 through 2018 timeframe.

Regarding 40 CFR 51.308(g)(5), GA EPD believes that there does not appear to be any significant change in anthropogenic emissions within Georgia or outside the State that have occurred since the period addressed in the most recent plan that would limit or impede progress in reducing pollutant emissions or improving visibility. Section III of the TSD to this rulemaking provides a more detailed summary of the State's assessment of how Georgia addressed requirements for periodic reports describing progress toward the RPGs for the State's Class I areas pursuant to 40 CFR 51.308(f)(5).

3. EPA Evaluation: EPA proposes to find that Georgia has met the requirements of 40 CFR 51.308(g)(1)-(5) because the Haze Plan adequately describes the status of the measures included in the LTS from the first planning period and the emission reductions achieved from those measures; the visibility conditions and changes at the Georgia Class I areas; an analysis tracking the changes in emissions since the first planning period progress report using available NEI emissions data for 2014 and 2017 and annual EGU SO2 emissions data from 2014 to 2021; evaluates 2017 NEI data which is the most recent triennial emissions inventory submission from Georgia prior to submission of the Haze Plan in accordance with the RHR; and assessed whether any significant changes in anthropogenic emissions within or outside the State have occurred since 2013 (the end of the period addressed by Georgia's first planning period progress report), including whether or not these changes in anthropogenic emissions were anticipated in that most recent plan and whether they have limited or impeded progress in reducing pollutant emissions and improving visibility. Thus, EPA is proposing to find that Georgia has met the requirements of 40 CFR 51.308(f)(5).

G. Requirements for State and Federal Land Manager Coordination

1. RHR Requirement: Section 169A(d) of the CAA requires States to consult with FLMs before holding the public hearing on a proposed regional haze SIP and to include a summary of the FLMs' conclusions and recommendations in the notice to the public. In addition, the FLM consultation provision of 40 CFR 51.308(i)(2) requires a State to provide the FLMs with an opportunity for consultation that is early enough in the State's policy analyses of its emission reduction obligation so that information and recommendations provided by the FLMs can meaningfully inform the State's decisions on its LTS. If the consultation has taken place at least 120 days before a public hearing or public comment period, the opportunity for consultation will be deemed early enough. Regardless, the opportunity for consultation must be provided at least 60 days before a public hearing or public comment period at the State level. Section 51.308(i)(2) also provides two substantive topics on which the FLMs must be provided an opportunity to discuss with States: assessment of visibility impairment in any Class I area and recommendations on the development and implementation of strategies to address visibility impairment. Section 51.308(i)(3) requires States, in developing their implementation plans, to include a description of how they addressed FLMs' comments. Section 40 CFR 51.308(i)(4) requires that the regional haze SIP revision provide procedures for continuing consultation between the State and FLMs regarding the State's visibility protection program.

2. State Assessment: As required by CAA section 169A(d), Georgia consulted with the FLMs prior to opening the State public period ⁸⁹ on its proposed haze plan and included a summary of the conclusions and recommendations of the FLMs in the proposed plan dated June 24, 2022. See Haze Plan Section 10.3 and Appendix H. Georgia consulted with the FLMs on April 22, 2022, which was 62 days before the opening of the public comment period on June 24, 2022.

⁸⁹ GA EPD provided a draft plan to the FLMs on April 22, 2022.

With respect to 40 CFR 51.308(i)(2), GA EPD offered to the three FLM agencies the opportunity to consult on the April 22, 2022, draft Georgia Haze Plan. Additionally, GA EPD shared with the FLMs the June 24, 2022, Prehearing Georgia Haze Plan issued for State public notice and comment with a public hearing held July 25, 2022, with the close of the comment period on July 26, 2022. A summary of this consultation process is discussed and documented in Appendix H-4a of the Haze Plan (responses to FLM comments) with supporting information in Appendix H-1a, H-1b, and H-1c (FLM comments received) and Appendix F.⁹⁰ Appendix H provides a summary of the NPS and USFS comments received on the draft and prehearing haze plans. Appendix H-4a provides GA EPD's responses to comments from the FLMs. Appendix H-1a contains comments from the USFS. Appendix H-1b and H-1c contains comments from the NPS. No comments were received from the FWS.

⁹⁰ Appendix F-3o of the Haze Plan provides three sets of letters to the FLMs dated April 22, 2022, requesting input on Georgia's draft plan. Appendices F-3a-3n include VISTAS consultation outreach with stakeholders, including the FLMs. (See, in particular, Appendices F-3b, F-3c, F-3d, and F-3j).

To address 40 CFR 51.308(i)(3), GA EPD provided responses to NPS and USFS comments in Appendix H-4a of the Haze Plan.

With respect to 40 CFR 51.308(i)(4), Georgia updated its existing procedures for continuing consultation with the FLMs, including annual discussions with a review of the most recent IMPROVE monitoring data. Records of annual consultations and progress report consultations will be maintained in GA EPD's regional haze files.

3. EPA Evaluation: EPA proposes to find that Georgia adequately addressed the FLM requirements in CAA section 169A(d) and 40 CFR 51.308(i). Georgia consulted with the FLMs prior to the public hearing on the Haze Plan and included a summary of the conclusions and recommendations of the FLMs in the proposed plan issued for public review.⁹¹

⁹¹ The consultation did not occur in person as stated in the CAA due to the convenience and efficiency of using email, phone calls, and video meetings.

EPA proposes to find that Georgia fully addressed the minimum 60-day requirement for FLM consultation under 40 CFR 51.308(i)(2) for the Haze Plan because GA EPD offered the April 22, 2022, draft Georgia Haze Plan for FLM comment at least 60 days prior to the start of GA EPD's public comment opportunity which opened on June 24, 2022, and closed on July 26, 2022.

EPA proposes to find that Georgia adequately addressed 40 CFR 51.308(i)(3) for the Haze Plan because the State's provided its responses to the FLM comments, as detailed in Appendices H-1a, 1b, and 1c of the Haze Plan.

EPA proposes to find that Georgia adequately addressed 40 CFR 51.308(i)(4) because the SIP revision provides ongoing consultation procedures with the FLMs, including annual discussions regarding implementation of the State's regional haze program with a review of the most recent IMPROVE monitoring data.

H. Environmental Justice Considerations

This proposed action would adopt source-specific provisions addressing SO2 emissions into the Georgia SIP. EPA expects that this proposed action and resulting emissions reductions will generally contribute to reduced environmental and health impacts on all populations in Georgia, including people of color and low-income populations. Further, there is no information in the record indicating that this action is expected to have disproportionately high or adverse human health or environmental effects on a particular group of people.⁹²

⁹² In Section 7.11 of the Haze Plan. GA EPD notes that the State has not identified any EJ communities living in any Class I areas whose visibility would be disproportionately impacted by GA EPD's selection of reasonable progress controls.

V. Incorporation by Reference

In this document, EPA is proposing to include in a final EPA rule regulatory text that includes incorporation by reference. In accordance with requirements of 1 CFR 51.5, and as discussed above in this preamble, EPA is proposing to incorporate by reference into Georgia's SIP GA EPD Permit No. 4911-015-0011-V-04-3 for Bowen Steam-Electric Generating Plant (State effective September 6, 2023), GA EPD Permit No. 2631-051-0007-V-04-1 for International Paper—Savannah (State effective October 20, 2023), and GA EPD Permit No. 2631-127-0003-V-07-3 for Brunswick Cellulose LLC (State effective October 25, 2023). EPA has made, and will continue to make, the SIP generally available through www.regulations.gov and at the EPA Region 4 Office (please contact the person identified in the “For Further Information Contact” section of this preamble for more information).

VI. Proposed Action

EPA is proposing to approve Georgia's August 11, 2022, SIP submission as satisfying the regional haze requirements for the second planning period contained in 40 CFR 51.308(f). Thus, EPA is proposing to adopt into Georgia's SIP GA EPD Permit No. 4911-015-0011-V-04-3 for Bowen Steam-Electric Generating Plant (State effective September 6, 2023), GA EPD Permit No. 2631-051-0007-V-04-1 for International Paper—Savannah (State effective October 20, 2023), and GA EPD Permit No. 2631-127-0003-V-07-3 for Brunswick Cellulose LLC (State effective October 25, 2023).

VII. Statutory and Executive Order Reviews

Under the CAA, the Administrator is required to approve a SIP submission that complies with the provisions of the CAA and applicable Federal regulations. See 42 U.S.C. 7410(k); 40 CFR 52.02(a). Thus, in reviewing SIP submissions, EPA's role is to approve State choices, provided that they meet the criteria of the CAA. Accordingly, this proposed action merely proposes to approve State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

Georgia did not evaluate EJ considerations as part of its SIP submittal; the CAA and applicable implementing regulations neither prohibit nor require such an evaluation. EPA did not perform an EJ analysis and did not consider EJ in this proposed action. Due to the nature of the action being proposed here, this proposed action is expected to have positive impact on the air quality of the affected area. Consideration of EJ is not required as part of this proposed action, and there is no information in the record inconsistent with the stated goal of Executive Order 12898 of achieving EJ for people of color, low-income populations, and Indigenous peoples.

List of Subjects in 40 CFR Part 52

Environmental protection, Air pollution control, Incorporation by reference, Nitrogen dioxide, Particulate matter, Sulfur oxides.

Authority: 42 U.S.C. 7401 et seq.

Dated: May 28, 2024.
Jeaneanne Gettle,
Acting Regional Administrator, Region 4.

[FR Doc. 2024-12025 Filed 5-31-24; 8:45 am]

BILLING CODE 6560-50-P